DEPARTMENT OF HEALTH AND HUMAN SERVICES

Administration for Children and Families

[Program Announcement No. OCS-2002-10]

Request for Applications for the Office of Community Services' Fiscal Year 2002 Community Economic Development Program

AGENCY: Office of Community Services, Administration for Children and Families, Department of Health and Human Services.

ACTION: Request for applications for the Office of Community Services' Community Economic Development Awards.

SUMMARY: The Administration for Children and Families (ACF), Office of Community Services (OCS), announces that competing applications will be accepted for new grants and cooperative agreements pursuant to the Secretary's Community Economic Development authority under sections 680(a)(2) of the Community Services Block Grant Act of 1981, as amended, (Public Law 105-285). The Office of Community Services is particularly interested in receiving applications from faith-based community development corporations.

Closing Date: The closing date for submission of applications for Fiscal Year 2002 is July 12, 2002. Applications received after this date will be classified as late.

Application Submission

Mailing and Delivery Address: Community Economic Development Program applications must be mailed or hand-carried to the OCS Operations Center: 1815 North Fort Meyer Drive, Suite 300, Arlington, Virginia 22209; Attention: Application for Community Economic Development Program. This is the only address that applications will be accepted; applications mailed or delivered to any other address will be returned to sender.

Submission Instructions: Applications shall be considered as meeting the announced deadline if they are received by 4:30 p.m. Eastern Standard Time (EST), at the OCS Operations Center on or before the closing date July 12, 2002. Applications not received by the closing date will be returned to the sender.

Applications either mailed, by U.S. Postal Service or hand delivered or courier delivered, must be physically received at the OCS Operations Center by 4:30 p.m. EST, on or before the closing date July 12, 2002. Applicants are reminded to mail or deliver applications to the OCS Operations Center well in advance of the closing date to assure timely receipt of their applications. (Applicants are cautioned that express/overnight mail services do not always deliver as agreed.)

Applications mailed or hand carried by applicants, applicant couriers, or by other representatives of the applicant shall be considered as meeting the announced deadline if they are received on or before the closing date at the OCS Operations Center: 1815 North Fort Meyer Drive, Suite 300, Arlington, VA 22209. The Operations Center is open daily between the hours of 8 a.m. and 4:30 p.m. EST, Monday through Friday (excluding Federal holidays). The address must appear on the envelope/package containing the application with the note, “Attention: Application for Community Economic Development Program”. (Applicants are again cautioned that express/overnight mail services do not always deliver as agreed.)

ACF cannot accommodate transmission of applications by fax or through other electronic media. Therefore, applications transmitted to ACF electronically will not be accepted regardless of date or time of submission and time of receipt.

Late applications: Applications that do not meet the criteria above are considered late applications. ACF shall notify each late applicant that its application will not be considered in the current competition.

Extension of deadlines: ACF may extend application deadlines when circumstances such as acts of God (floods, hurricanes, etc.) occur, or when there are widespread disruptions of the mail service. However, if ACF does not extend the deadline for all applicants, it may not waive or extend the deadline for any applicant. Determinations to extend or waive deadline requirements rest with ACF's Chief, Grants Management Officer.

Number of Copies Required: One signed original application and two additional copies must be submitted at the time of the initial submission. (OMB-0970-0139, which expires 12/31/2003).

The first page of the SF-424 must contain in the lower right-hand corner, a designation indicating under which priority area funds are being requested, for example ‘OP’ for Priority Area “1”—Operational Projects. See Part G, section 1, item 11 for details. Also, see Part C, section 5 for a description of each of the priority areas.

Acknowledgment of Receipt: All applicants will receive an acknowledgment notice with an assigned identification number. Applicants are requested to supply a self-addressed mailing label with their application that can be attached to this acknowledgment notice. The identification number and the program priority area letter code must be referred to in all subsequent communications with OCS concerning the application. If an acknowledgment is not received within two weeks after the deadline date, please notify the OCS Operations Center by telephone at (703) 351-7676.

[Note: To facilitate receipt of this acknowledgment from the operations center, applicant should include a cover letter with the application containing an E-mail address and facsimile (FAX) number if these resources are available to applicant.]

FOR GENERAL QUESTIONS ON THE ANNOUNCEMENT, CONTACT: Mr. Ros Relaford, Technical Assistance Manager, OCS Operations Center, Call: 1-800-281-9516, or E-mail: OCS@lcgnet.com.

FOR A COPY OF THE ANNOUNCEMENT, CONTACT: OCS Operations Center, 1815 North Fort Meyer Drive, Suite 300, Arlington, Virginia 22209, (703) 351-7676.

In addition, the announcement is accessible on the OCS web site for reading or downloading at: http://www.acf.dhhs.gov/programs/ocs/kits1.htm

The Catalog of Federal Domestic Assistance number for this program is 93.570. The title is Community Services Block Grant—Discretionary Awards (Urban Rural Economic Development.)

Table of Contents

PART A—PREAMBLE

1. Legislative Authority

2. Departmental Goals

3. Definition of Terms

4. Paperwork Reduction Act of 1995

PART B—APPLICATION PRE-REQUISITES

1. Eligible Applicants

2. Availability of Funds

3. Project and Budget Periods

4. Mobilization of Resources

5. Program Beneficiaries

6. Number of Projects in Application

7. Multiple Submittals

8. Sub-awarding or Delegating Projects

9. Third Party Agreements

10. Funding Considerations

11. Prohibited Activities

PART C—Application Requirements and Program Authority Areas

1. Program Goals

2. Program Scope

3. Program Focus

4. Community Empowerment and Collaboration

5. Types of Funding, Priority Areas and Estimated Funding

PART D—THE PROJECT DESCRIPTION, PROGRAM APPLICATION ELEMENTS AND REVIEW CRITERIA

1. Purpose

2. Project Summary/Abstract

3. Objectives and Need for Assistance

4. Results or Benefits Expected

5. Approach

6. Organization Profiles

7. Staff and Position Data

8. Evaluation

9. Business Plan

10. Third-Party Agreements

11. Letters of Support

12. Budget and Budget Justification

PART E—EVALUATION CRITERIA

1. Criteria for Review and Evaluation of Applications Submitted Under Priority Area 1, 2A, 2B, and 3.

2. Criteria for Review and Evaluation of Applications Submitted Under Priority Area 4.

PART F—APPLICATION

1. Availability of Forms

2. Intergovernmental Review

3. Application Consideration

4. Criteria for Screening Applications

PART G—CONTENTS OF APPLICATION AND RECEIPT PROCESS

1. Contents of Application

2. Acknowledgment of Receipt

PART H—INSTRUCTIONS FOR COMPLETING APPLICATION PACKAGE

1. SF-424 Application for Federal Assistance

2. SF-424A Budget Information—Non-Construction Programs

PART I—POST AWARD INFORMATION AND REPORTING REQUIREMENTS

1. Notification of Grant Award

2. Attendance at OCS Training Conference

3. Reporting Requirements

4. Audit Requirements

5. Lobbying

6. Applicable Federal Regulations

Attachments

A—2001 Poverty Income Guidelines

B—Standard Form 424, Application for Federal Assistance

C—Standard Form 424A, Budget Information—Non-Construction Programs

D—Standard Form 424B, Assurances—Non-Construction Programs

E—Certification Regarding Drug-Free Workplace Requirements

F—Certification of Debarment, Suspension and Other Responsibility Matters

G—Intergovernmental Review State Single Points of Contact Listing (SPOC List)

H—Certification Regarding Lobbying and Disclosure of Lobbying Activities, SF LLL

I—DHHS Regulations Applying to all Applicants/Grantees Under the Fiscal Year 2002 Community Economic Development Program

J—Certification Regarding Environmental Tobacco Smoke

K—Guidelines for a Business Plan

L—Table of North American Industry Classification System (NAIC)

M—Applicant's Checklist

PART A—PREAMBLE

1. Legislative Authority

The Community Services Block Grant (CSBG) Act of 1981, as amended, (Section 680 of the Community Opportunities, Accountability, and Training and Educational Services Act of 1998), authorizes the Secretary to make grants to provide technical and financial assistance for economic development activities designed to address the economic needs of low-income individuals and families by creating employment and business ownership opportunities.

2. Departmental Goals

This announcement is particularly relevant to the Departmental goal of strengthening the American family and promoting self-sufficiency. These programs have objectives of increasing the access of low-income people to employment and business development opportunities, and improving the integration, coordination, and continuity of the various HHS (and other Federal Departments') funded services potentially available to families living in poverty. Faith-based organizations are eligible to apply for grants under this program if they are private, non-profit organizations that are community development corporations.

3. Definition of Terms

For purposes of this Program Announcement, the following definitions apply:

Beneficiaries: Low-income people (as defined in the most recent annual revision of the Poverty Income Guidelines published by DHHS) and low-income communities receive direct benefits.

Budget period: The interval of time into which a grant period of assistance is divided for budgetary and funding purposes.

Business Start-up Period: The initial period (usually three to six months) after the effective date of an OCS award during which a grantee completes preliminary project tasks including but notlimited to assembling key staff, execution of contracts, lease out or build-out of space for occupancy, upfit plant equipment and other similar activities.

Building deconstruction: The systematic disassembly of residential and commercial buildings.

Cash contributions: The recipient's cash outlay, including the outlay of money contributed to the recipient by the third parties.

Community Development Corporation (CDC): A private, non-profit corporation, governed by a board of directors consisting of residents of the community and business and civic leaders, that has as a principal purpose planning, developing, or managing low-income housing or community development projects.

Community Economic Development (CED): A process by which a community uses resources to attract capital and increase physical, commercial, and business development and job opportunities for its residents.

Construction projects: For the purpose of this announcement, construction projects involve land improvements and development or major renovation of (new or existing) facilities and buildings, including their improvements, fixtures and permanent attachments.

Cooperative Agreement: An award instrument of financial assistance when substantial involvement is anticipated between the awarding office and the recipient during performance of the contemplated project.

Developmental phase: The time interval during a project period that precedes the operational phase. During the developmental phase, preliminary activities are accomplished which include establishing third party agreements, mobilizing monetary and other resources, assembling, rezoning and leasing of properties, conducting architectural and engineering studies, constructing facilities and etc.

Displaced worker: An individual who is in the labor market but has been unemployed for six months or longer.

Distressed community: A geographic urban neighborhood or rural community of high unemployment and pervasive poverty.

Eligible applicant: A private, non-profit organization that is a Community Development Corporation. (Also, see “Eligible Applicants” under Part B—Application Pre-Requisites and also Program Priority Areas under Part C.)

Employment education and training program: A program that provides education and/or training to welfare recipients, at-risk youth, public housing tenants, displaced workers, homeless and low-income individuals and that has demonstrated organizational experience in education and training for these populations.

Empowerment Zones and Enterprise Communities (EZ/EC): Those communities designated as such by the Secretary of Agricultural or Housing and Urban Development.

Equity investment: The provision of capital to a business entity for some specified purpose in return for a portion of ownership using a third party agreement as the contractual instrument.

Faith-Based Community Development Corporation: A community development corporation that has a religious character.

Hypothesis: An assumption made in order to test its validity. It should assert a cause-and-effect relationship between a program intervention and its expected result. Both the intervention and result must be measured in order to confirm the hypothesis. For example, the following is a hypothesis: “Eighty hours of classroom training in small business planning will be sufficient for participants to prepare a successful loan application.” In this example, data would be obtained on the number of hours of training actually received by participants (the intervention), and the quality of loan applications (the result), to determine the validity of the hypothesis (that eighty hours of training is sufficient to produce the result).

Intervention: Any planned activity within a project that is intended to produce changes in the target population and/or the environment and that can be formally evaluated. For example, assistance in the preparation of a business plan and loan package are planned interventions.

Job creation: New jobs, i.e. jobs not in existence prior to the start of the project, that result from new business startups, business expansion, development of new services industries, and/or other newly-undertaken physical or commercial activities.

Job placement: Placing a person in an existing vacant job of a business, service, or commercial activity not related to new development or expansion activity.

Letter of commitment: A signed letter or agreement from a third party to the applicant that pledges financial or other support for the grant activities only subject to receiving an award of OCS grant funds.

Loan: Money lent to a borrower under a binding pledge for a given purpose to be repaid, usually at a stated rate of interest and within a specified period of time.

Operational phase: The time interval during the project when businesses, commercial or other activities are in operation and employment or business ownership opportunities are provided for low-income persons.

Outcome evaluation: An assessment of project results as measured by collected data which define the net effects of the interventions applied in the project. An outcome evaluation will produce and interpret findings related to whether the interventions produced desirable changes and their potential for replicability. It should answer the question: Did this program work?

Poverty Income Guidelines: Guidelines published annually by the U.S. Department of Health and Human Services that establish the level of poverty defined as low-income for individuals and their families.

Process evaluation: The ongoing examination of the implementation of a program. It focuses on the effectiveness and efficiency of the program's activities and interventions (for example, methods of recruiting participants, quality of training activities, or usefulness of follow-up procedures). It should answer questions such as: (1) Who is receiving what services and (2) are the services being delivered as planned. In addition, this process is known as a formative evaluation because it gathers information that can be used as a management tool to improve the way a program operates while the program is in progress. It should also identify problems that occurred, how the problems were resolved and what recommendations are needed for future implementation.

Pre-development phase: The time interval during a project period that an applicant or grantee plans a project, conducts feasibility studies, prepares a business or work plan and mobilizes non-OCS funding.

Program income: Gross income earned by the grant recipient that is directly generated by an activity supported with grant funds.

Project period: The total time for which a project is approved for OCS support, including any approved extensions.

Revolving loan fund: A capital fund established to make loans whereby repayments are re-lent to other borrowers.

Self-employment: The state of an individual or individuals who engage in self-directed economic activities.

Self-sufficiency: The economic state not requiring public assistance for an individual and his (her) immediate family.

Sub-award: An award of financial assistance in the form of money, or property in lieu of money, made under an award by a recipient to an eligible sub-recipient or by a sub-recipient to a lower tier sub-recipient. The term includes financial assistance when provided by any legal agreement, even if the agreement is called a contract, but does not include procurement of goods and services nor does it include any form of assistance which is excluded from the definition of “award” in 45 CFR 74.2. (Note: Sub awards do not include equity investments or loan transactions since they are promulgated under third party agreements.)

Technical assistance: A problem-solving event generally utilizing the services of a specialist. Such services may be provided on-site, by telephone, or by other communications. These services address specific problems and are intended to assist with the immediate resolution of a given problem or set of problems.

Temporary Assistance to Needy Families (TANF): Title I of the Personal Responsibility and Work Opportunity Reconciliation Act of 1996 (Public Law 104-193) creates the TANF program that transforms welfare into a system that requires work in exchange for time-limited assistance. The law specifically eliminates any individual entitlement to or guarantee of assistance, repeals the Aid to Families with Dependent Children (AFDC) program, Emergency Assistance (EA) and Job Opportunities and Basic Skills Training (JOBS) programs, and replaces them with a block grant entitlement to States under Title IV-A of the Social Security Act.

Third party: Any individual, organization, or business entity that is not the direct recipient of grant funds.

Third party agreement: A written agreement entered into by the grantee and an organization, individual or business entity (including a wholly-owned subsidiary), by which the grantee makes an equity investment or a loan in support of grant purposes.

Third party in-kind contributions: The value of non-cash contributions provided by non-federal third parties which may be in the form of real property, equipment, supplies and other expendable property, and the value of goods and services directly benefitting and specifically identifiable to the project or program.

4. Paperwork Reduction Act of 1995 (Public Law 104-13

Public reporting burden for this collection of information is estimated to average 10 hours per response, including the time for reviewing instructions, gathering and maintaining the data needed and reviewing the collection information. The project description is approved under Office of Management and Budget (OMB) Control Number 0970-0139 which expires 12/31/2003. An agency may not conduct or sponsor, and a person is not required to respond to, a collection of information unless is displays a currently valid OMB control number.

PART B—APPLICATION PRE-REQUISITES

1. Eligible Applicants

An eligible applicant must be a private, non-profit organization and must provide proof of its status. The non-profit agency can accomplish this by providing a copy of either the applicant's listing in the Internal Revenue Service's (IRS) most recent list of tax-exempt organizations, a copy of the currently valid IRS tax exemption certificate, or a copy of the articles of incorporation bearing the seal of the State in which the corporation or association is domiciled. Faith-based organizations are eligible to apply.

Also to be eligible, an applicant must be a Community Development Corporation (CDC). A CDC is a private, non-profit corporation, governed by a board of directors consisting of residents of the community and business and civic leaders, that has a principal purpose of planning, developing, or managing low-income housing or community development projects.

All eligible applicants must have private, non-profit status at the time of submission of their application. In addition to non-profit status, each priority area of this program announcement has additional eligibility requirements. These requirements are identified in the narrative descriptions of each priority area found in Part C. Applicant must submit proof of non-profit status in its application at the time of submission. Applications that do not include proof of this status with their application will be disqualified.

2. Availability of Funds

Approximately $25,000,000 is available for FY 2002. However, all grant awards for FY 2002 are subject to the availability of appropriated funds. The maximum funding level for each award is described under each priority area description in Part C.

3. Project and Budget Periods

For Priority Areas 1, 2, and 3, applicants with projects involving construction may request a project period of up to 60 months and a budget period of up to 36 months. Applicants for non-construction projects under these priority areas may request project periods of up to 36 months and budget periods of up to 17 months. For Priority Area 4, applicants may request project and budget periods of up to 12 months.

4. Mobilization of Resources

OCS encourages and strongly supports leveraging of resources through public/private partnerships that can mobilize cash and/or third-party in-kind contributions.

5. Program Beneficiaries

Projects proposed for funding under this announcement must result in direct benefits to low-income people as defined in the most recent annual revision of the Poverty Income Guidelines published by DHHS.

Attachment A to this announcement is an excerpt from the Poverty Income Guidelines currently in effect. Annual revisions of these guidelines are normally published in the Federal Register in February or early March of each year. Grantees will be required to apply the most recent guidelines throughout the project period. These revised guidelines may be obtained at public libraries, Congressional offices, or by writing the Superintendent of Documents, U.S. Government Printing Office (GPO), Washington, DC 20402. Also, grantees may contact the OCS Operations Center to obtain a copy of the guidelines. No other government agency or privately defined poverty guidelines are applicable for the determination of low-income eligibility for these OCS programs.

Note, however, that low-income individuals granted lawful temporary resident status under Sections 245A or 210A of the Immigration and Nationality Act, as amended by the Immigration Reform and Control Act of 1986 (Public Law 99-603), may not be eligible for direct or indirect assistance based on financial need under this program for a period of five years from the date such status was granted.

6. Number of Projects in Application

All Priority Area applications shall contain only one proposed project except for Priority Area 4. Applicants that are not in compliance with this requirement may be disqualified. Under Priority Area 4, applicants may address a number of ideas or activities that promote planning or development of projects.

7. Multiple Submittals

There is no limit to the number of applications that an applicant can submit under this announcement as long as each application contains a different project. However, an applicant can receive only one grant or cooperative agreement under this program announcement.

8. Sub-awarding or Delegating Projects

OCS does not fund projects where the role of the applicant is primarily to serve as a conduit for funds through the use of sub awards to other organizations. In cases where the applicant proposes to make one or more sub awards, it must retain a substantive role in the implementation and operation of the project for which funding is requested.

9. Third Party Agreements

Any applicant submitting an application for funding under Priority Areas 1 or 3 that proposes to use some or all of the requested OCS funds to enter into a third party agreement in order to make an equity investment, such as the purchase of stock or a loan to an organization or business entity (including a wholly-owned subsidiary), is required to include in the application, along with the business plan, a copy of the signed third party agreement for approval by OCS. When the applicant is proposing to enter into a third party agreement for all of the grant funds and a signed third party agreement is not included with the business plan, if the application is approved, OCS will send a time-limited letter of intent to fund each viable, competitively ranked project pending receipt of a signed third party agreement. Once OCS has determined that the agreement is acceptable, an award will be forwarded to the applicant.

If a signed third party agreement is not available when the application is submitted, the applicant must submit as part of the narrative as much of the information below as possible in order to enable reviewers to evaluate the application. This exception is particularly applicable to Incremental Development Projects or Priority Area 2.

For this priority area an applicant may establish a third party agreement during the developmental phase but before the operational phase of the project. However, it should be noted that the portion of a grant that will be used to fund project activities related to a third party agreement will not be released (in any instances) until the agreement has been approved by OCS.

A third party agreement covering an equity investment must contain, at a minimum, the following:

—Purpose(s) for which the equity investment is being made.

—Cost per share.

—The type of equity transaction (e.g. stock purchase).

—Number of shares being purchased.

—Percentage of ownership of the business.

—Term of duration of the agreement.

—Number of seats on the board, if applicable.

—Signatures of the authorized official of the grantee and third party organization.

A third party agreement covering a loan transaction must contain, at a minimum, the following information:

—Purpose(s) for which the loan is being made.

—Rates of interest and other fees.

—Terms of loan.

—Repayment schedules.

—Collateral security.

—Default and collection procedures.

—Signatures of the authorized official of the lender and borrower.

All third party agreements must include written commitments as follows:

From the Third Party (as Appropriate)

—Low-income individuals will fill a minimum of 60% of the jobs to be created from project activities as a result of the injection of grant funds.

—The grantee will have the right to screen applicants for jobs to be filled by low-income individuals and to verify their eligibility.

—If the grantee's equity investment equals 25% or more of the business's assets, the grantee will have representation on the board of directors.

—Reports will be made to the grantee regarding the use of grant funds on a quarterly basis or more frequently, if necessary.

—Procedures will be developed to assure that there are no duplicate counts of jobs created.

Detailed information will be provided on how the grant funds will be used by the third party by submitting a Source and Use of Funds Statement. In addition, the agreement must provide details on how the grantee will provide support and technical assistance to the third party in areas of recruitment and retention of low-income individuals.

From the Grantee

Detailed information on how the grantee will provide support and technical assistance to the third party in areas of recruitment and retention of low-income individuals.

All third party agreements should be accompanied by:

A signed statement from a Certified or Licensed Public Accountant as to the sufficiency of the third party's financial management system in accordance with 45 CFR 74, to protect adequately any federal funds awarded under the application.

Financial statements for the third party organization for the prior three years. (If not available because the organization is a newly formed entity, include a statement to this effect.)

The third party agreement will specify how the grantee will provide oversight of the grant supported activities of the third party for the life of the agreement. Also, the agreement will specify that the third party will maintain documentation related to the grant objectives as specified in the agreement and will provide the grantee and HHS access to that documentation.

The grantee is responsible for ensuring that grant funds expended by it and the third party are expended in compliance with Federal regulations of 45 CFR, part 74 and OMB Circular A-122.

10. Funding Considerations

In cases where an application ranks high and is competitive, the following may apply:

(a) Previous performance of applicants will be considered an important determining factor in the grant award decisions.

(b) Any applicant that has two or more active OCS grants may only be funded under exceptional circumstances.

(c) Pre-award site visits may be performed for the purpose of undertaking assessments of many of these applications prior to OCS making final determinations on grant awards.

11. Prohibited Activities

OCS will not consider applications that propose the establishment of Small Business Investment Corporations or Minority Enterprise Small Business Investment Corporations.

OCS does not fund projects that have a primary purpose to provide education and training activities. In projects where participants must be trained, any funds that are proposed to be used for training purposes must be limited to providing specific job-related training to those individuals who have been selected for employment in the grant supported project which includes new business startups, business expansions, development of new service industries, and/or other newly-undertaken physical and commercial activities.

Projects involving training and placement for existing vacant positions will be disqualified from competition.

Projects that would result in the relocation of a business from one geographic area to another with the possible displacement of employees are discouraged.

PART C—APPLICATION REQUIREMENTS AND PROGRAM PRIORITY AREAS

1. Program Goals

Projects must further the Departmental goals of strengthening American families and promoting their self-sufficiency. OCS is particularly interested in receiving applications that involve public-private partnerships that are directed toward the development of economic self-sufficiency for low-income people and distressed communities through projects that focus on providing employment and business ownership opportunities for low-income people through business startups, business expansions, development of new services, and/or other newly-undertaken physical and commercial activities.

2. Project Scope

OCS encourages each applicant to describe the project scope that includes the low-income community served, the business activities undertaken, and types of jobs to be created. The business activities should be described by the North American Industry Classification System (NAICS) and jobs by occupational classifications. This information is published by the U. S. Department of Commerce in the current Statistical Abstract of the United States, or updated revisions. Also, applicant may use the material included in Attachment I to identify industrial areas and occupational classifications.

3. Program Focus

The focus of this program is to encourage the creation of projects intended to create jobs and provide employment and business ownership opportunities for low-income people through business, physical or commercial development. Generally the opportunities must aim to improve the quality of the economic and social environment of TANF recipients; low-income residents including displaced workers; at-risk teenagers; custodial and non-custodial parents, particularly those of children receiving TANF assistance; individuals residing in public housing; individuals who are homeless; and individuals with developmental disabilities. Grant funds under this program announcement area are intended to provide resources to eligible applicants but also have the broader objectives of arresting tendencies toward dependency, chronic unemployment, and community deterioration in urban and rural areas.

4. Community Empowerment and Collaboration

Eligible organizations including faith-based community development corporations located in Empowerment Zones, Enterprise Communities and rural areas are urged to submit applications. Likewise, applicants are encouraged to foster partnerships with child support enforcement agencies to increase the capability of low-income non-custodial parents, particularly those of children receiving TANF assistance, to fulfill their parental responsibilities. Such applicants may request funds for a business development project or a project that demonstrates innovative ways to create jobs for low-income persons in the targeted group or community.

5. Types of Funding, Priority Areas and Estimated Funding

The types of funding are grants and coopeative agreements. Operational projects, developmental projects and planning projects will be supported through grants. Incremental development projects and Native American Tribes incremental development projects will be supported through cooperative agreements.

The program priority areas and the estimated level of funding available under each area are:

1. Operational Projects (OP)—$12,600,000 estimate.

2A. Incremental Development Projects (IDP)—$2,240,000 estimate. (First increment will be funded in FY 2002. Second increment will be considered in FY 2003 or FY 2004, respectively, depending on whether a successful applicant has no more than a 12-month budget period or a budget period ranging from 13-17 months. Also, funding of the second increment is subject to continued funding of this program.)

2B.—Native American Tribes (NAT) Incremental Development Projects;—$280,000 estimate.

(First increment will be funded in FY 2002. Second increment will be considered in FY 2003 or FY 2004, respectively, depending on whether a successful applicant has no more than a 12-month budget period or a budget period ranging from 13-17 months. Also, funding of the second increment is subject to continued funding of this program.)

3. Developmental Projects (DP)—$7,000,000 estimate.

4. Planning Projects (PP)—$1,350,000 estimate.

Applicants applying for priority areas 1, 2A, 2B and 3 must show that the proposed project:

(1) Creates full-time permanent jobs except where an applicant demonstrates that a permanent part-time job produces actual wages that exceed the HHS poverty guidelines. At least sixty percent (60%) of the jobs created must be filled by low-income residents of the community and must also provide for career development opportunities. Project emphasis should be on employment of individuals who are unemployed or on public assistance, with particular emphasis on those that are at-risk teenagers, TANF recipients, low-income custodial and non-custodial parents (particularly those of children receiving TANF assistance), individuals residing in public housing, individuals with developmental disabilities, and individuals who are homeless. While projected employment in future years may be included in the application, it is essential that the focus of employment projects concentrate on those permanent jobs created during the duration of the OCS project period; and/or

(2) Creates a significant number of business ownership opportunities for low-income residents of the community or significantly aids such residents in maintaining economically viable businesses; and

(3) Assists low-income participants to become self-sufficient.

In addition, favorable consideration in the review process will be given to applicants that develop linkages and agreements or demonstrate their intention to coordinate services with the local TANF offices and/or other employment education and training offices and child support enforcement agencies that serve the proposed area. The offices and agencies should serve TANF recipients, at-risk youth, public housing tenants, displaced workers, homeless and low-income individuals (as defined by the annual revision to the Poverty Income Guidelines published by DHHS) including custodial and non-custodial parents. Applicants should submit a written agreement from the applicable office or agency that indicates what actions will be taken to integrate/coordinate services that relate directly to the project for which funds are being requested. The agreement should include the goals and objectives (including target groups) that the applicant and the employment education and training office and child support enforcement agencies expect to reach through their collaboration. It should describe the cooperative relationship, including specific activities and/or actions each of these entities proposes to carry out in support of the project, and the mechanism(s) to be used in coordinating those activities if the project is funded by OCS. Documentation that illustrates the organizational experience of the employment education and training office should also be included.

Applications must include provision for an independent, methodologically sound evaluation of the effectiveness of the activities carried out with the grant and their efficacy in creating new jobs and business ownership opportunities. There must be a well-defined process evaluation, and an outcome evaluation whose design will permit tracking of project participants throughout the proposed project period. The evaluation must be conducted by an independent evaluator, i.e., a person with recognized evaluation skills who is organizationally distinct from, and not under the control of, the applicant. It is important that each successful applicant have a third-party evaluator selected, and implement their role at the very latest by the time the work program of the project is begun, and if possible before that time so that he or she can participate in the design of the program, in order to assure that data necessary for the evaluation will be collected and available.

The executive director and/or project director, and the evaluator must attend a two-day national workshop in Washington, DC. The workshop will be scheduled shortly after the effective date of the grant award. Additionally, the project director should plan annual meetings with their program and grants management specialists each year, thereafter, during the life of the grant. The evaluator should also attend a final evaluation workshop to be held at the end of the project period. Project budgets must include funds from the OCS award for travel to and attendance at these meetings and workshops.

Priority Area 1. Operational Projects (OP)

An applicant for an operational project must have in place written commitments for all projected non-OCS funding required for their project. Written proof of commitments from third parties must be submitted with the application. After the business start-up period, a period that is relatively a short time after the effective date of the OCS grant, an operational project should start its operational phase. The operational phase is defined as the time interval when business, commercial or other activities are in operation and employment or business ownership opportunities are provided for low-income persons.

An eligible applicant must propose a project that provides employment and business ownership opportunities for low-income people through business, physical or commercial development at the local level. Applicants should submit a work plan or business plan that complies with the test of economic feasibility. Attachment K is a guideline for the work plan or business plan.

The cost-per-job for low-income persons in OCS funds may not exceed $15,000. Unless there are extenuating circumstances, OCS will not fund projects where the cost-per-job for low-income persons in OCS funds exceeds $15,000.

The maximum award of OCS funding can be no more than $700,000 for a project.

A project period up to 60 months and a budget period up to 36 months are permitted for projects involving construction. Projects that do not involve construction may have a maximum project period up to 36 months and a maximum budget period up to 17 months.

Applicants must be aware that projects funded under this priority area must be operational by the end of the project period, i.e., businesses must be in place, and low-income individuals actually employed in those businesses.

Priority Area 2A. Incremental Development Projects (IDP)

IDP projects will be funded in two increments including (1) a developmental phase and (2) an operational phase. IDP applicants should submit a comprehensive, written business plan or work plan. OCS intends to support an IDP project under a cooperative agreement. A cooperative agreement is an award instrument of financial assistance when substantial involvement is anticipated between the awarding office and the recipient during performance of the contemplated project. The OCS will outline a plan of interaction with the grantee for implementation under the cooperative agreement. The respective responsibilities of the OCS and the successful applicant will be identified and incorporated into the cooperative agreement during pre-award negotiations. It is anticipated that OCS responsibilities will not change the project requirements found in this Announcement. The plan under the cooperative agreement will describe the general and specific responsibilities of the grantee and the grantor as well as foreseeable joint responsibilities. A schedule of tasks will be developed and agreed upon in addition to any special conditions relating to the implementation of the project. An applicant for IDP has the same requirements as Priority Area 1 (OP) except for the following:

(a) All written commitments need not be in place;

(b) All non-OCS funding necessary to complete the project need not be in place;

(c) A third party agreement need not be in place (if applicable); and

(d) Acquisition or site control of the proposed site and similar activities need not be in place.

An applicant requesting funding for an IDP project must request the total amount of OCS funding at the initial submission of their application. However, the project will receive OCS funding in two increments: (a) The first increment will be provided to begin the developmental phase. During the developmental phase, the grantee will be granted initial funding up to but not to exceed more than 20% of the total OCS funding requested for the entire project period. The second increment is predicated on success of the developmental activities being in place. Documentation of completed tasks must be submitted to the Office of Grants Management in accord with terms and requirements of the cooperative agreement to be reviewed by OCS prior to the project's operational phase being funded. The decision to continue funding the project is at the sole discretion of the OCS.

Funding will be provided in no more than two increments as follows:

The first increment will not exceed 20% of the anticipated total OCS grant award. The budget period for this phase can be no longer than 17 months for non-construction projects and 24 months for projects involving construction.

The second increment is for the balance of anticipated OCS funds. The budget period for this phase can be no longer than 17 months for non-construction projects and 24 months for construction projects. The combined project period and budget periods for the first and second increment cannot exceed 36 months for non-construction and 60 months for construction type projects.

The cost-per-job in OCS funds (based on the total anticipated request of OCS funds for the entire project period) may not exceed $15,000.

The maximum award of OCS funding requested for the entire project period can be no more than $700,000 for a project. The maximum amount of the first incremental award cannot exceed $140,000 or 20% of the total OCS funding, whichever is lower.

Priority Area 2B. Native American Tribe, Incremental Development Project, (NAT)

Funds will be provided to two private, non-profit, 501(c), community development corporations that enter into an agreement with an eligible Native American tribe to carry out business development activities, i.e. business startups, business expansions, development of new services industries, and/or other newly-undertaken physical and commercial activities, on reservations. An eligible Native American Tribe is one of the 42 tribes that operate a Temporary Assistance for Needy Families Block Grant Program (TANF) under a direct agreement (recognized under tribal self-governance agreements as the equal of a State block grant program) with the Federal government.

The applicant should select a project that promotes economic sustainability and self-sufficiency for families on the reservation where the project will be implemented. An application under this priority area must reflect a significant partnership role for the tribe. The application also must contain a written, signed agreement from an authorized tribal official confirming the tribe's significant involvement in the grant activities. By entering into a partnership agreement with a tribe, the applicant will be considered to have fulfilled the goal of mobilizing non-discretionary program dollars under sub-criterion V.1, Mobilization of resources and will be granted the maximum number of points (10) in that category.

In addition, applicants must develop a project that has the same purposes and requirements as Priority Area 2A. Also, for each applicant, the maximum OCS funding requested, budget and project period and other requirements are the same as Priority Area 2A.

Priority Area 3. Developmental Projects (DP)

Funds will be provided to a limited number of eligible applicants that received planning grants from OCS in Fiscal Years 2000 and 2001.

Applicant must develop a project that has the same purposes and requirements as Priority Area 1.

The maximum award of OCS funding can be no more than $350,000.

Priority Area 4. Planning Projects (PP)

Funds will be provided to a limited number of eligible applicants that have been recently established and are inexperienced in implementing economic development projects. The primary purpose of this priority area is to assist eligible organization in planning, developing organizational capacity, identifying potential projects, mobilizing resources and the development of a business plan for implementation on completion of the planning project.

Eligible applicants cannot be more than three years old, or if more than three years old have no experience in implementing economic development projects. (For the latter type of applicant, a written assurance must be provided in the project narrative that states “ the applicant had no participation in economic development projects”). The phrase “no participation in economic development projects” means an eligible applicant has not sponsored nor had any significant participation in projects that have provided employment or business ownership opportunities through business startups, expansions or development through physical, business or commercial activities or provision of financial services. In addition, applicants with housing experience must not have had primary responsibility in planning, developing, and managing housing projects.

With funding received under this priority area, applicants may incur costs to: (1) Evaluate the feasibility of potential projects that address identified needs in the low-income community (see Part E—Evaluation Criteria, Section 2, Criterion I for details) and that conform to those projects and activities allowable under Priority Areas 1, 2A, 2B and 3; (2) develop a business plan related to one of those projects; (3) mobilize resources to be contributed to one of those projects and (4) develop organizational capacity. Examples of activities under item 4 may include hiring staff, training board members, staff and volunteers, recruiting community volunteers and developing management systems.

The business plan developed as a result of the respective planning project must be submitted as part of your next competitive application if you participate in the Developmental or Operational Projects set-asides for Fiscal Year 2003 based on the availability of funds.

The maximum award of OCS funding can not exceed $75,000 including the cost of travel for the program director to attend a two-day workshop in Washington, DC.

The project and budget period can be no longer than 12 months.

Applications submitted under this priority area will be evaluated on how well the project narrative comply with the following information:

1. Description of the impact area, i.e., a description of the low-income area it proposes to address;

2. Need identification in the targeted area;

3. How the potential projects relate to applicant's organizational goals and previous experience (if any);

4. Project approach and implementation factors including a discussion of potential projects that might be implemented to address identified needs;

5. A strategy for conduct of feasibility studies on potential projects including quarterly work plans with specific task timelines and a self-evaluation component; and

6. Project objectives and measurable impact, i.e., a discussion of preparing a business plan on only one selected project based on results of the feasibility studies and a plan for mobilization of non-OCS dollars to implement it.

PART D—THE PROJECT DESCRIPTION, PROGRAM APPLICATION ELEMENTS AND REVIEW CRITERIA

1. Purpose

The project description provides the major means by which an application is evaluated and ranked to compete with other applications for available assistance. The project description should be concise and complete and should address the activity for which Federal funds are being requested. Supporting documents should be included where they can present information clearly and succinctly. Applicants are encouraged to provide information on their organizational structure, staff, related experience, and other information considered relevant. Awarding offices use this and other information to determine whether the applicant has the capability and resources necessary to carry out the proposed project. It is important, therefore, that this information be included in the application. However, in the narrative the applicant must distinguish between resources directly related to the proposed project from those that will not be used in support of the specific project for which funds are requested.

2. Project Summary/Abstract

Provide a summary of the project description (a page or less) with reference to the funding request.

3. Objectives and Need for Assistance

Clearly identify the physical, economic, social, financial, instructional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

4. Results or Benefits Expected

Identify the results and benefits to be derived. For example, describe the types of jobs to be created or employment or business ownership opportunities to be provided to low-income persons, career opportunities provided and how the applicant will assist participants to move towards self-sufficiency. As another example, the applicant should provide information on the funds and other resources mobilized or attracted to respective low-income communities.

5. Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of microloans made. Also, this section should include the number of jobs created and business ownership opportunities provided to low income persons; and the amount of resources and types of business attracted to low-income communities. When accomplishments cannot be quantified by activity or function, list them in chronological order to show the schedule of accomplishments and their target dates. If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

6. Organization Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)3 of the IRS code, or, by providing a copy of the currently valid IRS tax exemption certificate, or, by providing a copy of the articles of incorporation bearing the seal of the State in which the corporation or association is domiciled.

7. Staff and Position Data

Provide a biographical sketch for each key person appointed and a job description for each vacant key position. A biographical sketch will also be required for new key staff as appointed.

8. Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

9. Business Plan

When Federal grant funds will be used to make an equity investment or loan, provide a business plan. The business plan should include discussion of applicable elements of a business plan as described in Attachment K, “Guidelines for a Business Plan”.

10. Third-Party Agreements

Include written agreements between grantees and sub-grantees or subcontractors or other cooperating entities. These agreements must detail the scope of work to be performed, work schedules, remuneration, and other terms and conditions that structure or define the relationship.

11. Letters of Support

Provide statements from community, public and commercial leaders that support the project proposed for funding. All submissions should be included.

12. Budget and Budget Justification

Provide a line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. If not known at the time of submission, a comprehensive position description should be included that indicates that the responsibility to be assigned to the project director are relevant to the successful implementation of the project. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, Federal Insurance Compensation Act (FICA), retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 74 procedures, must justify any anticipated procurement action that is expected to be awarded without competition and exceed the simplified acquisition threshold fixed at 41 USC 403(11) (currently set at $100,000). Recipients might be required to make available to ACF pre-award review and procurement documents, such as request for applications or invitations for bids, independent cost estimates, etc.

Note: Whenever the applicant intends to delegate part of the project to another agency, the applicant must provide a detailed budget and budget narrative for each delegate agency, by agency title, along with the required supporting information referred to in these instructions.

Other

Description: Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Non-Federal Resources

Amounts of non-Federal resources that will be used to support the project as identified in Block 15 of the SF-424. The firm commitment of these resources must be documented and submitted with the application in order to be given credit in the review process. A detailed budget must be prepared for each funding source.

PART E—EVALUATION CRITERIA

Each application submitted under this program announcement will undergo initial screening to determine that the application was received by the closing date, complies with the page limitation, is eligible for funding and complies with other instructions. Also, see Part F—Application Procedures, section 4 for additional details of “criteria for screening applicants”.

Each application that passes the initial screening will be reviewed and scored by a panel of three independent reviewers. Each panel gives a numerical score and summary evaluation of each application reviewed. The summary evaluation will include explanatory statements describing major strengths and weaknesses reviewed against published criterion.

The competitive review of each application is based on the degree to which applicants:

(1) Adhere to the requirements in PART B, incorporate the elements of specific priority area and address elements under each criterion; and

(2) Describe a project that will create jobs and provide employment to and business ownership opportunities for low-income persons including TANF and other eligible persons.

1. Criteria for Review and Evaluation of Applications Submitted Under Priority Areas 1, 2 and 3

Criterion I: Need for Assistance Maximum: (5 Points)

The application documents that the project addresses a vital need in a distressed community. Distressed community is defined as a geographic urban neighborhood or rural community of high unemployment and pervasive poverty. The application documents that both the unemployment rate and poverty level for the targeted neighborhood or community must be equal or greater than the national level. (0-3 points)

The application cites the most recent available statistics from published sources e.g. the recent U.S. Census or updates, the State, county, city, election district and other information are provided in support of its contention. (0-2 points)

Criterion II: Organizational Profiles and Staff Responsibilities (Maximum: 15 Points)

(1) Organizational Profiles (Sub-Rating: 0-7 Points)

The applicant has the organizational structure and strategic plan to develop business, physical, or community development activities. (0-4 points)

The applicant has demonstrated the ability to implement major activities in such areas as business development, commercial development, physical development, or financial services; and the ability to mobilize dollars from sources such as the private sector (corporations, banks, etc.). (0-3 points)

(2) Staff Skills, Resources and Responsibilities (Sub-Rating: 0-8 Points)

The application describes in brief resume form the experience and skills of the project director who is not only well qualified, but whose professional capabilities are relevant to the successful implementation of the project. If the key staff person has not yet been identified, the application contains a comprehensive position description that indicates that the responsibilities to be assigned to the project director are relevant to the successful implementation of the project. (0-5 points)

The applicant has adequate facilities and resources (i.e. space and equipment) to successfully carry out the work plan. (0-2 points)

The assigned responsibilities of the staff are appropriate to the tasks identified for the project and sufficient time of senior staff will be budgeted to assure timely implementation and cost effective management of the project. (0-1 points)

Criterion III: Project Approach (Maximum: 25 Points)

(1) The business plan or work plan, where applicable, is both sound and feasible. The plan describes the key project tasks and shows how the project objectives will be accomplished including the development of businesses and creation of jobs for low-income persons during the allowable OCS project period. (0-3 points)

(2) The project is responsive to the needs identified in the Analysis of Need. (0-4 points)

(3) The work plan outlines realistic quarterly time targets by which the various work tasks would be completed. (0-5 points)

(4) Critical issues or potential problems that might impact negatively on the project are defined and the project objectives can be reasonably attained despite such potential problems. (0-3 points)

The application contains a full and accurate description of the proposed use of the requested financial assistance for all projects. However, if an applicant proposes (under Priority Areas 1 and 3) to make an equity investment or a loan to an individual, organization, or business entity (including a wholly-owned subsidiary), the application includes a signed third party agreement; a signed statement by a Certified or Licensed Public Accountant, as to the sufficiency of the third party's financial management system; and financial statements for the third party's prior three years of operation. (If newly formed and unable to provide the information regarding the prior three years of operation, a statement to that effect is included.) If the applicant states that an agreement is not currently in place, the application contains in the narrative as much information required for third party agreements as is available. (See Part B, item 9.)

Note: For applicants that propose projects under Priority Area 2A and 2B, at the time of application their proposal needs only to contain a comprehensive, written business or work plan. Developmental activities related to equity investment and third party agreements may be unrealized concepts at the time of their application. Thus, no points should be deducted from the total points for this sub-criterion for these applicants.]

Also, if the project proposes the development of a new or expanded business, service, physical or commercial activity, the application addresses applicable elements of a business plan. Guidelines for a Business Plan are included in Attachment K.

(5) The financial plan element, which indicates the project's potential and timetable for financial self-sufficiency, is included. It includes for the applicant and the third party, if appropriate, the following exhibits for the first three years (on a quarterly basis) of the business' operations: Profit and Loss Forecasts, Cash Flow projections, and Proforma Balance Sheets. Based on these documents, the application also contains an analysis of the financial feasibility of the project. In addition, a Source and Use of Funds statement for all project funding is included. (0-10 points)

Criterion IV: Results or Benefit Expected (Maximum: 20 Points)

(1) Results or Benefits Expected (Sub-Rating: 0-5 Points)

The proposed project will produce permanent and measurable results including, but not limited to, employment and business ownership opportunities that will reduce the incidence of poverty and TANF assistance in the community. (0-3 points)

The OCS grant funds, in combination with private and/or other public resources, are targeted into low-income communities, distressed communities, and/or designated Empowerment Zones and Enterprise Communities. (0-2 points)

(2) Community Empowerment Consideration and Partnership With Child Support Enforcement Agency (Sub-Rating: 0-5 Points)

The applicant is located in an area that is characterized by poverty and other indicators of socio-economic distress such as a poverty or TANF assistance rate of at least 20%, designation as an Empowerment Zone or Enterprise Community (EZ/EC), high levels of unemployment, high levels of incidences of violence, gang activity, crime, drug use, and low-income custodial and non-custodial parents of children receiving TANF. (0-3 points)

Applicant documents that it was involved in the preparation and implementation of a comprehensive community-based strategic plan to achieve both economic and human development in an integrated manner; and how the proposed project will support the goals of that plan. Also, if an applicant documents that it has entered into partnership agreements with the local TANF and/or other employment education and training office and/or child support enforcement agency to increase capability of low-income parents and families to fulfill their parental responsibilities. (0-2 points)

Note 1: Applicants who have projects located in EZ/EC target areas or those who have included signed current agreements with child support enforcement agencies will automatically receive the maximum 2 points.

Note 2: For applicants that apply under Priority Area 2B, partnership agreements refer to agreements entered into with a Native American Tribe and the contents of the agreement support the goals of participants on the reservation. If the agreement is included with the application, the applicant automatically receives the maximum 2 points.

(3) Cost-per-job (Sub-Rating: 0-5 Points)

During the project period, the proposed project will create new, permanent jobs or maintain permanent jobs for low-income residents at a cost-per-job below $15,000 in OCS funds unless there are extenuating circumstances, e.g., Alaska where the cost of living is much higher. (0-5 points)

(4) Career Development Opportunities (Sub-Rating: 0-5 Points)

The applicant documents that the jobs to be created for low-income people have career development opportunities that will promote self-sufficiency. (0-5 points)

Criterion V: Public-Private Partnerships (Maximum: 15 Points)

(1) Mobilization of Resources: (Sub-Rating: 10 Points)

The applicant documents it has mobilized from public and/or private sources the proposed balance of Non-OCS funding required to fully implement the project. Lesser contributions will be given consideration based upon the value documented. (0-10 points)

Note 1: Applicant under Priority Area 2A and 2B, need only document an amount equal to the amount of OCS funds requested for the first segment.

Note 2: Applicants under Priority Area 2B with a written partnership agreement with a tribe will be considered to have fulfilled the goal of mobilizing non-discretionary program dollars and on this basis will be granted the maximum number of points (10) in this sub-priority area.

Note 3: Cash resources such as cash or loans contributed from all project sources (except for those contributed directly by the applicant) are documented by letters of commitment from third parties making the contribution.

Note 4: The value of in-kind contributions for personal property is documented by an inventory valuation for equipment and a certified appraisal for real property. Also, a copy of a deed or other legal document is required for real property.

Note 5: Anticipated or projected program income such as gross or net profits from the project or business operations will not be recognized as mobilized or contributed resources.

(2) Integration/Coordination of Services (Sub-Rating: 5 Points)

The applicant demonstrates a commitment to, or agreements with, local agencies responsible for administering child support enforcement, employment education, and training programs to ensure that welfare recipients, at-risk youth, displaced workers, public housing tenants, homeless and low-income individuals, and low-income custodial and non-custodial parents will be trained and placed in the newly created jobs. The applicant provides written agreements from the local TANF or other employment education and training offices, and child support enforcement agency indicating what actions will be taken to integrate/coordinate services that relate directly to the project for which funds are being requested. (0-2 points)

The agreements include: (1) The goals and objectives that the applicant and the TANF or other employment education and training offices and/or child support enforcement agency expect to achieve through their collaboration; (2) the specific activities/actions that will be taken to integrate/coordinate services on an on-going basis; (3) the target population that this collaboration will serve; (4) the mechanism(s) to be used in integrating/coordinating activities; (5) how those activities will be significant in relation to the goals and objectives to be achieved through the collaboration; and (6) how those activities will be significant in relation to their impact on the success of the OCS-funded project. (0-2 points)

The applicant also provides documentation that illustrates the organizational experience related to the employment education and training program. (Refer to Criterion II for guidelines.) (0-1 point)

Criterion VI: Project Evaluation (Maximum: 15 Points)

Sound evaluations are essential to the Community Economic Development Program. OCS requires applicants to include in their applications a well thought through outline of an evaluation plan for their project. The outline should explain how the applicant proposes to answer the key questions about how effectively the project is being/was implemented; whether the project activities, or interventions, achieved the expected immediate outcomes, and why or why not (the process evaluation); and whether and to what extent the project achieved its stated goals, and why or why not (the outcome evaluation). Together, the process and outcome evaluations should answer the question: “What did this program accomplish and why did it work/not work?”

Applicants are not being asked to submit a complete and final evaluation plan as part of their application; but they must include:

(1) A well thought through outline of an evaluation plan that identifies the principal cause-and-effect relationships to be tested, and that demonstrates the applicant's understanding of the role and purpose of both process and outcome evaluations. (See previous paragraph). (0-2 points)

A reporting format based on the grantee's documentation of its activities (interventions) and their effectiveness, to be included in the grantee's semi-annual program progress report, which will provide OCS with insights and lessons learned, as they become evident, concerning the various aspects of the work plan, such as recruitment, training, support, public-private partnerships, and coordination with other community resources, as they may be relevant to the proposed project. (0-2 points)

(2) The identity and qualifications of the proposed third-party evaluator, or if not selected, the qualifications which will be sought in choosing an evaluator, which must include successful experience in evaluating community development programs, and the planning and/or evaluation of programs designed to foster self-sufficiency in low income populations. (0-2 points)

(3) A commitment to the selection of a third-party evaluator approved by OCS, and to completion of a final evaluation design and plan, in collaboration with the approved evaluator and the OCS Evaluation Technical Assistance Contractor during the six-month start-up period of the project, if funded. (0-2 points)

Applicants should ensure, above all, that the evaluation outline presented is consistent with their project design. A clear project framework of the type recommended earlier identifies the key project assumptions about the target populations and their needs, as well as the hypotheses, or expected cause-effect relationships to be tested in the project; and the proposed project activities, or interventions, that will address those needs in ways that will lead to the achievement of the project goals of self-sufficiency. It also identifies in advance the most important process and outcome measures that will be used to identify performance success and expected changes in individual participants, the grantee organization, and the community. Finally, as noted above, the outline should provide for prompt reporting, concurrently with the semi-annual program progress reports, of lessons learned during the course of the project, so that they may be shared without waiting for the final evaluation report.

(4) For all these reasons, it is important that each successful applicant have a third-party evaluator selected and performing at the very latest by the time the work program of the project is begun, and if possible before that time so that he or she can participate in the final design of the program, and in order to assure that data necessary for the evaluation will be collected and available. Plans for selecting an evaluator should be included in the application narrative. A third-party evaluator must have knowledge about, and have experience in, conducting process and outcome evaluations in the job creation field, and have a thorough understanding of the range and complexity of the problems faced by the target population. (0-2 points)

The competitive procurement regulations (45 CFR part 74, Sections 74.40—74.48, especially section 74.43) apply to service contracts such as those for evaluators.

It is suggested that applicants use no more than three (3) pages for this Element, plus the resume or position description for the evaluator, which should be included in an appendix.

Criterion VII: Budget and Budget Justification Maximum: 5 Points)

Funds requested are commensurate with the level of effort necessary to accomplish the goals and objectives of the project. (0-2 points)

The application includes a detailed budget breakdown and a narrative justification for each of the budget categories in the SF-424A. The applicant presents a reasonable administrative cost. (0-2 points)

The estimated cost to the government of the project also is reasonable in relation to the anticipated results. (0-1 point)

2. Criteria for Review and Evaluation of Applications Submitted Under Priority Area 4

Criterion I: Need for Assistance (Maximum: 15 Points)

The application documents that the project addresses a vital need in a distressed community. A distressed community is defined as a geographic urban neighborhood or rural community of high unemployment and pervasive poverty. The application documents that both the unemployment rate and poverty level for the targeted neighborhood or community is equal or greater than the national level. (0-10 points)

The application cites the most recent available statistics from official sources (e.g., the recent U.S. Census or updates, the State, county, city, election district and other information are provided in support of its contention). (0-5 points)

Criterion II: Organizational Profiles and Staffing Capacity (Maximum: 20 Points)

(1) Organizational Profiles (Sub-Rating: 5 Points)

The applicant shows why its organization can successfully implement the project for which it is requesting funds. (0-3 points)

* Please note that this entire section relates to the organizational experience of the applicant organization, itself, and does not pertain to the experience of a partner or an affiliated or parent organization. Also, this section does not pertain to the experience of the directors, officers, employees, contractors, volunteers or other persons have gained from other organizations or otherwise.

The organization must demonstrate that the Board of Directors are residents, or business or civic leaders of the community. This can be done by showing the address(es) of their home and/or businesses or local civic association. The applicant must show that its board of directors is active by providing a copy of the minutes of the meeting (properly signed by the Secretary) held within the 90 days of its submission of its application to OCS. The minutes must include the attendees and officers present that constitute a quorum and the subject matters discussed including its approval of the organization's submission of an application to OCS for funding. (0-2 points)

(2) Management Capacity (Sub-Rating: 5 Points)

Applicant fully details its ability to implement sound and effective management practices and, if it has been a recipient of other Federal or other governmental grants, it also details that it has consistently complied with financial and program progress reporting and audit requirements. (0-3 points)

Applicant has submitted available documentation on its management practices and progress reporting procedures along with a statement by a Certified or Licensed Public Accountant (CPA) as to the sufficiency of the applicant's financial management system to protect adequately any Federal funds awarded under the application submitted. If the applicant has not hired a CPA, it may include a statement signed by both the head of the organization and the treasurer providing assurance of the sufficiency of the financial management system. (0-2 points)

[Note: The assurance or documentation of the applicant's management practices, etc., and statement from the accountant on the financial management system must address the applicant organization's own internal system rather than an external system of an affiliate, partner, management support organization, etc.]

(3) Staffing (Sub-Rating: 5 Points)

The application fully describes (e.g., resumes) the experience and skills of key staff showing that they are not only well qualified but that their professional capabilities are relevant to the successful implementation of the project.

(4) Staffing responsibilities (Sub-Rating: 5 Points)

The application describes how the assigned responsibilities of the staff are appropriate to the tasks identified for the project.

Criterion III: Project Approach and Evaluation (Maximum: 30 Points)

(1) Project Approach (Sub-Rating: 25 Points)

The work plan addresses a clearly identified need in the low-income community as described in Criterion I. The plan must include a methodology to evaluate the feasibility of potential projects that conform to the type of projects and activities allowable under Priority Areas 1, 2, and 3. (0-8 points)

The work plan discusses the preparation of a business plan on one selected project based on the results of the feasibility studies and a plan for mobilization of non-Community Economic Development funds to implement the business plan. (0-4 points)

The work plan addresses activities to develop organizational capacity, e.g. hiring staff, training board members, staff and volunteers, recruiting community volunteers and developing management systems. (0-4 points)

It outlines realistic quarterly time schedules of work tasks by which the objectives (including the development of organizational capacity, a business plan and mobilization of resources) will be accomplished.

[Note: Because quarterly time schedules are used by OCS as a key instrument to monitor progress, failure to include these time targets will seriously reduce an applicant's point score in this criterion.] (0-5 points)

It defines critical issues or potential problems that might impact negatively on the project and it indicates how the project objectives will be attained notwithstanding any such potential problems. (0-4 points)

(2) Evaluation component (Sub-Rating: 5 Points)

The application includes a self-evaluation component. The evaluation data collection and analysis procedures are specifically oriented to assess the degree to which the stated goals and objectives are achieved. (0-3 Points)

Qualitative and quantitative measures reflective of the scheduling and task delineation in (1) above are used to the maximum extent possible. This component indicates the ways in which the potential grantee would integrate qualitative and quantitative measures of accomplishment and specific data into its program progress reports that are required by OCS from all organizations receiving planning grants. (0-2 points)

Criterion IV: Results and Benefits Expected (Maximum: 25 Points)

(1) The proposed project around which the business plan is to be developed with the use of OCS grant funds is targeted into low-income communities, and/or designated Empowerment Zones or Enterprise Communities with the goals of increasing the economic conditions and social self-sufficiency of residents. Also, the project proposes to produce permanent and measurable results that will reduce the incidence of poverty and number of TANF recipients in the low-income area targeted. (0-15 points)

[Note: This priority area permits applicants to conduct several feasibility studies related to various potential projects. However, on completion of the studies, one proposed project must be selected and a business plan prepared for the selected project.]

(2) The activity targets mobilization of non-OCS program dollars from private sector individuals, public resources, corporations and foundations, if the proposed project is implemented. (0-10 points)

Criterion V: Budget and Budget Justification (Maximum: 10 Points)

Funds requested are commensurate with the level of effort necessary to accomplish the goals and objectives of the project. The estimated cost to the government of the project also is reasonable in relation to the anticipated results. (0-5 points)

The application includes a detailed budget breakdown and a narrative justification for each of the budget categories in the SF 424-A. The applicant presents a reasonable administrative cost. (0-5 points)

PART F—APPLICATION PROCEDURES

1. Availability of Forms

For purposes of this announcement, all applicants will use the following forms: SF-424, SF-424A, SF-424B.

Applications proposing construction projects will present all required financial data using SF-424A. Instructions for completing the SF-424, SF-424A, and SF-424B are found in Attachments B, C, and D. These forms may be photocopied for this application.

An applicant may use instructions under Part D or F for preparing the project abstract and project narrative. They should be submitted on plain bond paper along with the SF-424 and related forms.

Attachment M, Applicant's Checklist, provides a checklist to aid applicants in preparing a complete application package for OCS.

The applicant must be aware that in signing and submitting the application for this award, it is certifying that it will comply with the Federal requirements concerning the following regulations: Drug-free workplace, Attachment E; Debarment, Attachment F; and Environmental Tobacco Smoke, Attachment J.

2. Intergovernmental Review

This program is covered under Executive Order 12372, Intergovernmental Review of Federal Programs, and 45 CFR Part 100, Intergovernmental Review of Department of Health and Human Services Programs and Activities. Under the Order, states may design their own processes for reviewing and commenting on proposed Federal assistance under covered programs.

The following jurisdictions have elected NOT to participate in the Executive Order process. Applicants from these jurisdictions or for projects administered by Federally-recognized Indian tribes need take no action in regard to E.O. 12372: Alabama, Alaska, Colorado, Connecticut, Hawaii, Idaho, Kansas, Louisiana, Massachusetts, Minnesota, Montana, Nebraska, New Jersey, Ohio, Oklahoma, Oregon, Pennsylvania, South Dakota, Tennessee, Vermont, Virginia, Washington, and Palau.

An applicant should contact its Single Point of Contact (SPOC) as soon as possible to alert them of the prospective applications and receive any necessary instructions. Applicants must submit any required material to the SPOCs as soon as possible so that the program office can obtain and review SPOC comments as part of the award process. It is imperative that the applicant submits all required materials, if any, to the SPOC and indicates the date of this submittal (or the date of contact if no submittal is required) on the Standard Form 424, item 16a, and submits a copy of the letter along with its application to OCS. Under 45 CFR 100.8(a)(2), a SPOC has 60 days from the application deadline date to comment on proposed new or competing continuation awards.

The SPOCs are encouraged to eliminate the submission of routine endorsements as official recommendations. Additionally, SPOCs are requested to clearly differentiate between mere advisory comments and those official state process recommendations which they intend to trigger the “accommodate or explain” rule.

When comments are submitted directly to ACF, they should be addressed to: Department of Health and Human Services, Administration for Children and Families, Office of Grants Management/OCSE, 4th Floor West, Aerospace Center, 370 L'Enfant Promenade, SW., Washington, DC 20447.

A list of the Single Points of Contact for each state and territory is included as Attachment G of this announcement.

3. Application Consideration

Applications that meet the screening requirements in sections 4.a and b. below may be reviewed competitively. Such applications will be referred to reviewers for a numerical score and explanatory comments based solely on responsiveness to program priority area guidelines and evaluation criteria published in this announcement.

Applications submitted under all priority areas will be reviewed by persons outside of the Office of Community Services. The results of these reviews will assist the Director and OCS program staff in considering competing applications.

Reviewers' scores will weigh heavily in funding decisions but will not be the only factors considered. Applications generally will be considered in order of the average scores assigned by reviewers. However, highly ranked applications are not guaranteed funding since the Director may also consider other factors deemed relevant including, but not limited to, the timely and proper completion of projects funded with OCS funds granted in the last five (5) years; comments of reviewers and government officials; staff evaluation and input; geographic distribution; previous program performance of applicants; compliance with grant terms under previous DHHS grants; audit reports; investigative reports; and applicant's progress in resolving any final audit disallowances on previous OCS or other Federal agency grants.

Applicants with two or more active OCS grants at the time of review may be denied funding. In addition, OCS may consider the geographic distribution of funds among states and the relative proportion of funding among rural and urban areas in accordance with Section 680(a)(2)(D) of the CSBG Act.

OCS reserves the right to discuss applications with other Federal or non-Federal funding sources to ascertain the applicant's performance record.

4. Criteria for Screening Applications

1. a. Initial Screening

All applications that meet the published deadline for submission will be screened to determine completeness and conformity to the requirements of this announcement. Only those applications meeting the following requirements will be reviewed and evaluated competitively. Others will be returned to the applicants with a notation that they were unacceptable.

(1) The application must contain the Application for Federal Assistance (SF-424), a budget (SF-424A), and signed Assurances (SF 424B) completed according to instructions included in Parts D, F, G and H of this Program Announcement.

(2) A project abstract must also accompany the standard forms.

(3) The SF-424 and the SF-424B must be signed by an official of the organization applying for the grant who has authority to obligate the organization legally.

(4) While there is no limit to the number applications that can be submitted under a specific program priority area, each application must be submitted for consideration under one priority area only.

(5) All applications that exceed 65 pages will be determined ineligible and will be returned to the sender. (See Part F.1. “Content of Application” for details.

b. Pre-Review

Applications that pass the initial screening will be forwarded to reviewers and/or OCS staff prior to the programmatic review to verify that the applications comply with this Program Announcement in the following areas:

(1) Eligibility: Applicant must comply with the eligibility requirements for the priority area under which funds are being requested. Proof of non-profit status, (see Eligible Applicants under Part B, Application Prerequisites) must be included in the appendices of the project narrative where applicable. Applicants that do not submit proof of non-profit status will be disqualified. Applicants must also be aware that the applicant's legal name as required in SF-424, Item 5 must match that listed as corresponding to the Employer Identification Number at Item 6.

(2) Number of Projects: While there is no limit to the numbers of applications, an application may contain only one project under Priority Areas 1, 2, and 3. However, an application may contain more than one project under Priority Area 4 where applicants are researching and conducting feasibility studies of various project opportunities.

(3) Grant amount: The amount of funds requested does not exceed the limits indicated in the appropriate priority area.

(4) Written Agreement When Applicant Proposes to Make Equity Investment or Loan: (Priority Areas 1, 2, and 3): The application contains a written third party agreement, or a discussion of a proposed agreement, signed by the applicant and the third party that includes all of the elements required in Part B, item 9.

An application will be disqualified if it does not conform to one or more of the above requirements.

c. Panel Reviews

Applications that pass the initial and pre-rating review will be assessed and scored by panels of reviewers. Each reviewer will give a numerical score for each application reviewed. These numerical scores will be supported by explanatory statements on a formal rating form describing major strengths and weaknesses under each applicable criterion published in the announcement.

The panelists will use the criteria found in Part D along with the specific requirements contained under each program priority area as described in Part C.

PART G—CONTENTS OF APPLICATION AND RECEIPT PROCESS

1. Contents of Application

Each submission should include one signed original application and two additional copies of the application. The font size must not be smaller than a 12 pitch and the margins must be at least 1″ wide on all sides. The application package including the sections for the table of contents, project abstract, project and budget narratives and business plan must not exceed 65 pages for applications submitted under Priority Areas 1, 2, and 3 and 35 pages under Priority area 4. The instruction for page limitation is included below in items e and f.

Note: It is important to note that applications with the above cited sections exceeding the page limitation will be determined ineligible and will be returned to the sender.

The page limitation does not include the following attachments and appendices: Standard Forms for Assurances, Certifications, Disclosures and appendices listed below. The instructions are included below in items c, d, g, h, i, j, k, l, m, and n. Application pages should be numbered sequentially throughout the application package, beginning with an abstract of the proposed project as page number one. Each application must include all of the following, in the order listed below:

a. Table of Contents.

b. Completed Standard Form 424—(Attachment B)—that has been signed by an official of the organization applying for the grant who has authority to obligate the organization legally.

c. A Standard Form 424A—Budget Information—Non-Construction Programs (Attachment C).

d. A budget justification for each object class category required under Section B, SF-424A (Attachment C).

e. A Project Abstract—A paragraph that succinctly describes the project in 500 characters or less. Section 424A (Attachment C).

f. A Project Narrative. The project narrative must address the specific concerns mentioned under the relevant priority area description in Part C. The narrative should also provide information on how the application meets the evaluation criteria in Part D and Guidelines for a Business Plan (Attachment K) of the Program Announcement.

g. A Standard Form 424B Assurances—Non-Construction (Attachment D)—All applicants, whether or not their project involves construction, must sign and submit the Standard Form 424B with their applications.

h. Certification Regarding Lobbying—(Attachment H)—Applicant must sign and return an executed copy of the lobbying certification.

i. Disclosure of Lobbying Activities, SF-LLL (Attachment H)—Fill out, sign and date the form.

j. DHHS Regulations Applying to All Applicants/Grantees Under the Community Economic Development Program (Attachment I)—By signing and submitting the application, applicant is certifying that it will comply with these regulations.

k. Certification Regarding Environmental Tobacco Smoke (Attachment J)—Applicant must make the appropriate certification of their compliance with the Pro-Children Act of 1994. By signing and submitting the application, applicant is providing the certification regarding environmental tobacco smoke and need not mail back the certification with their applications.

l. Certification Regarding Drug-Free Workplace Requirement (Attachment E): By signing and submitting the application, applicant is certifying that it will comply with this regulation.

m. Certification Regarding Debarment, Suspension, and Other Responsibility Matters: By signing and submitting the application, applicant is certifying that it will comply with this regulation.

n. Proof of Non-Profit Status: The non-profit agency can accomplish this by providing a copy of either the applicant's listing in the Internal Revenue Service's (IRS) most recent list of tax-exempt organizations, a copy of the currently valid IRS tax exemption certificate, or, a copy of the articles of incorporation bearing the seal of the State in which the corporation or association is domiciled. Applicants that do not include proof of this status with the applications will be disqualified.

Other information needed on the applicant organization includes a listing of the current Board of Directors' names, titles and addresses (Note: If the applicant is proposing an equity transaction, this is also needed for the third party organization.); resumes of the project director and other key management team members; written agreements, i.e., third party agreements, coordination with TANF, etc.; a copy of the submission to the State Single Point of Contact, if applicable; Single Point of Contact comments, where applicable; certification regarding anti-lobbying activities; and a disclosure of lobbying activities.

2. Acknowledgment of Receipt

All applicants will receive an acknowledgment notice with an assigned identification number. Applicants are requested to supply a self-addressed mailing label with their application that can be attached to this acknowledgment notice. The identification number and the program priority area letter code must be referred to in all subsequent communications with OCS concerning the application. If an acknowledgment is not received within two weeks after the deadline date, please notify the OCS Operations Center by telephone at (703) 351-7676.

[Note: To facilitate receipt of this acknowledgment from the OCS Operations center, applicant should include a cover letter with the application containing an E-mail address and facsimile (FAX) number if these resources are available to applicant.]

PART H—INSTRUCTIONS FOR COMPLETING APPLICATION PACKAGE

It is suggested that the applicant reproduce the SF-424 and SF-424A, and type its organization's legal name on the copies. If an item on the SF-424 cannot be answered or does not appear to be related or relevant to the assistance requested, write NA for Not Applicable.

Prepare your application in accordance with the standard instructions given in Attachments B and C corresponding to the forms, as well as the OCS specific instructions set forth below:

1. SF-424 Application for Federal Assistance

Item 1. For the purposes of this announcement, all applications are considered Applications; there are no Pre-Applications. For the purpose of this announcement, construction projects involve land improvements and development or major renovation of (new or existing) facilities and buildings, including their improvements, fixtures and permanent attachments. All others are considered non-construction. Check the appropriate box under Application. Whether applications involve construction or non-construction projects, all applicants are required to complete the Budget Information—Non-construction Programs sections of SF-424A.

Items 5 and 6. The legal name of the applicant must match that listed as corresponding to the Employer Identification Number. Where the applicant is a previous Department of Health and Human Services grantee, enter the Central Registry System Employee Identification Number (EIN) and the Payment Identifying Number (PIN), if one has been assigned, in the block entitled Federal Identifier located at the top right hand corner of the form.

Item 7. If the applicant is a non-profit corporation, enter N in the box and specify non-profit corporation in the space marked Other. Any non-profit organization submitting an application must submit proof of its non-profit status in its applications at time of submission.

Item 9. Enter DHHS-ACF/OCS.

Item 10. The Catalog of Federal Domestic Assistance number for OCS programs covered under this announcement is 93.570. The title is CSBG Community Economic Development Awards.

Item 11. In addition to a brief descriptive title of the project, indicate one of the following program priority areas for which funds are being requested.

OP—Priority Area 1. Community Economic Development (Operational Projects)

IDP—Priority Area 2A. Community Economic Development (Incremental Development Projects)

NAT—Priority Area 2B. (Native American Tribes, Incremental Development Project)

DP—Priority Area 3. Community Economic Development (Developmental Projects)

PP—Priority Area 4. Community Economic Development (Planning Projects)

2. SF-424A—Budget Information—Non-Construction Programs

See instructions accompanying this form as well as the instructions set forth below:

In completing these sections, the Federal funds budget entries will relate to the requested OCS Community Economic Development funds only, and Non-Federal will include mobilized funds from all other sources—applicant, state, local, and other. Federal funds other than requested OCS Community Economic Development funding should be included in Non-Federal entries.

The budget forms in SF-424A are only to be used to present grant administrative costs and major budget categories. Financial data that is generated as part of a project Business Plan or other internal project cost data must be separate and should appear as part of the project Business Plan or other project implementation data.

Sections A and D of SF-424A must contain entries for both Federal (OCS) and non-Federal (mobilized) funds. Section B contains entries for Federal (OCS) funds only. Clearly identified continuation sheets in SF-424A format should be used as necessary.

Section A—Budget Summary

Lines 1-4:

—Column (a): Line 1—Enter CSBG Community Economic Development

—Column (b): Line 1—Enter 93.570

—Columns (c) and (d): Leave Blank

—Columns (e) through (g): Line 1; enter the appropriate amounts needed to support the project for the budget period.

Line 5: Enter the figures from Line 1 for all columns completed as required, (c), (d), (3), (f), and (g).

Section B—Budget Categories

Allowability of costs is governed by applicable cost principles set forth in 45 CFR part 74. A budget narrative must be submitted that includes the appropriate justifications as stated.

This section should contain entries for OCS funds only. For all projects, this first budget period will be entered in Column (1).

Budget estimates for administrative costs must be supported by adequate detail for the grants officer to perform a cost analysis and review. Adequately detailed calculations for each budget object class are those that reflect estimation methods, quantities, unit costs, salaries, and other similar quantitative detail sufficient for the calculation to be duplicated. For any additional object class categories included under the object class other, identify the additional object class(es) and provide supporting calculations.

Supporting narratives and justifications are required for each budget category, with emphasis on unique/special initiatives; large dollar amounts; local, regional, or other travel; new positions; and major equipment purchases.

A detailed itemized budget with a separate budget justification for each major item should be included as indicated below:

Line 6a

Personnel—Enter the total costs of salaries and wages.

Justification—Identify the project director and staff. Specify by title or name the percentage of time allocated to the project, the individual annual salaries and the cost to the project (both Federal and non-Federal) of the organization's staff that will be working on the project.

Line 6b

Fringe Benefits—Enter the total costs of fringe benefits unless treated as part of an approved indirect cost rate that is entered on Line 6j.

Justification—Enter the total costs of fringe benefits, unless treated as part of an approved indirect cost rate. Provide a breakdown of amounts and percentages that comprise fringe benefit costs.

Line 6c

Travel—Enter total cost of all travel by employees of the project. Do not enter costs for consultant's travel.

Justification—Include the name(s) of traveler(s), total number of trips, destinations, length of stay, mileage rate, transportation costs and subsistence allowances. Traveler must be a person listed under the personnel line or employee being paid under non-federal share. (Note: Local transportation and consultant travel costs are entered on Line 6h.)

Line 6d

Equipment—Enter the total estimated costs for all non-expendable personal property to be acquired by the project. Equipment means tangible nonexpendable personal property, including exempt property, charged directly to the award having a useful life of more than one year and an acquisition cost of $5,000 or more per unit. However, consistent with recipient policy, lower limits may be established.

Justification—Provide breakdown of cost per item. Items that cost less than $5,000 should be included under Supplies.

Line 6e

Supplies—Enter the total estimated costs of all tangible personal property (supplies) other than that included on line 6d.

Justification—Provide a general description as to what is being purchased such as type of supplies, office, classroom, medical, etc. Also property that is not equipment and costs less than $5,000 per item.

Line 6f

Contractual—Enter the total costs of all contracts, including (1) procurement contracts (except those which belong on other lines such as equipment, supplies, etc.) and (2) contracts with secondary recipient organizations including delegate agencies and specific projects(s) or businesses to be financed by the applicant.

Justification—Contractual cannot be a person—it must be the name of an organization, firm, etc. Consultant cost goes in line 6h—Other.

Line 6g

Construction—Enter the estimated costs of renovation, repair, or new construction. Identify the type of construction activity and costs associated, i.e., concrete, HVAC, electrical, etc. Provide narrative justification and breakdown of costs.

Line 6h

Other—Enter the total of all other costs. Such costs, where applicable, may include, but are not limited to insurance, fees and travel paid directly to individual consultants, local transportation (all travel which does not require per diem is considered local travel), space and equipment rentals, printing, computer use training costs including tuition and stipends, training service costs including wage payments to individuals and supportive service payments, and staff development costs.

Justification—Provide as much detail as you can. Some items may have to be defined more than others.

Line 6j

Indirect Charges—Enter the total amount of indirect costs. This line should be used only when the applicant currently has an indirect cost rate approved by DHHS or other Federal agencies.

If the applicant organization is in the process of initially developing or renegotiating a rate, it should, immediately upon notification that an award will be made, develop a tentative indirect cost rate application based on its most recently completed fiscal year in accordance with the principles set forth in the pertinent DHHS Guide for Establishing Indirect Cost Rates and submit it to the appropriate DHHS Regional Office. It should be noted that when an indirect cost rate is requested, those costs included in the indirect cost pool cannot be also budgeted or charged as direct costs to the grant. Indirect costs consistent with approved Indirect Cost Rate Agreements are allowable.

Section C—Non-Federal Resources

This section is to record the amounts of non-Federal resources that will be used to support the project. Non-Federal resources mean other than OCS funds for which the applicant is applying. Therefore, mobilized funds from other Federal programs where authorizing statutes permit their use as non-Federal sources, should be entered on these lines. Provide a brief listing of the non-Federal resources on a separate sheet and describe whether it is a grantee-incurred cost or a third-party in-kind contribution. The firm commitment of these resources must be documented and submitted with the application in order to be given credit under the criterion for Public-Private Partnerships.

Except in unusual situations, this documentation must be in the form of letters of commitment from the organization(s)/ individuals from which funds will also be received.

PART I—POST AWARD INFORMATION AND REPORTING REQUIREMENTS

1. Notification of Grant Award

Following approval of the applications selected for funding, notice of project approval and authority to draw down project funds will be made in writing. The official award document is the Financial Assistance Award that provides the amount of Federal funds approved for use in the project, the budget period for which support is provided, the terms and conditions of the award, the total project period for which support is contemplated, and the total financial participation from the award recipient.

General Conditions and Special Conditions (where the latter are warranted) that will be applicable to grants, are subject to the provisions of 45 CFR Part 74.

2. Attendance at OCS Training Conference

The Executive Director and/or Project Director will be required to attend a two-day national workshop in Washington, DC The project budget must include funds for travel to attend this conference.

3. Reporting Requirements

Grantees will be required to submit semi-annual progress and financial reports (SF-269) as well as a final progress and financial report.

Under the Paperwork Reduction Act of 1995, Public Law 104-13, an agency may not conduct or sponsor, and a person is not required to respond to, a collection of information unless it displays a currently valid OMB control number. This program announcement does not contain information collection requirements beyond those approved for ACF grant applications under OMB Control Number 0970-0139, which expires 12/31/2003.

4. Audit Requirements

Grantees are subject to the audit requirements in 45 CFR parts 74 and OMB Circular A-133. If an applicant will not be requesting indirect costs, it should anticipate in its budget request the cost of having an audit performed at the end of the grant period.

5. Lobbying

Section 319 of Public Law 101-121, signed into law on October 23, 1989, imposes prohibitions and requirements for disclosure and certification related to lobbying on recipients of Federal contracts, grants, cooperative agreements, and loans. It provides limited exemptions for Indian tribes and tribal organizations. Current and prospective recipients (and their subtier contractors and/or grantees) are prohibited from using appropriated funds for lobbying Congress or any Federal agency in connection with the award of a contract, grant, cooperative agreement or loan. In addition, for each award action in excess of $100,000 (or $150,000 for loans) the law requires recipients and their subtier contractors and/or sub grantees: (1) To certify that they have neither used nor will use any appropriated funds for payment to lobbyists; (2) to submit a declaration setting forth whether payments to lobbyists have been or will be made out of non-appropriated funds and, if so, the name, address, payment details, and purpose of any agreements with such lobbyists whom recipients or their subtler contractors or sub grantees will pay with the non-appropriated funds; and (3) to file quarterly up-dates about the use of lobbyists if an event occurs that materially affects the accuracy of the information submitted by way of declaration and certification. The law establishes civil penalties for noncompliance and is effective with respect to contracts, grants, cooperative agreements and loans entered into or made on or after December 23, 1989. See Attachment H for certification and disclosure forms to be submitted with the applications for this program.

6. Applicable Federal Regulations

Attachment I provides a list of the regulations that apply to all applicants/grantees under the FY 2002 (Supplementary) and FY 2002 Community Economic Development Programs.

Dated: May 3, 2002.
Clarence Carter,
Director, Office of Community Services.

List of Attachments

A—2001 Poverty Income Guidelines

B—Standard Form 424, Application for Federal Assistance

C—Standard Form 424A, Budget Information—Non-Construction Programs

D—Standard Form 424B, Assurances—Non-Construction Programs

E—Certification Regarding Drug-Free Workplace Requirements

F—Certification of Debarment, Suspension and Other Responsibility Matters

G—Intergovernmental Review State Single Points of Contact Listing (SPOC List)

H—Certification Regarding Lobbying and Disclosure of Lobbying Activities, SF LLL

I—DHHS Regulations Applying to all Applicants/Grantees Under the Fiscal Year 2002 Community Economic Development Program

J—Certification Regarding Environmental Tobacco Smoke

K—Guidelines for a Business Plan

L—Table of North American Industry Classification System (NAIC)

M—Applicant's Checklist

Attachment A
Size of family unit | Poverty guidelines
2001 POVERTY INCOME GUIDELINES FOR THE 48 CONTIGUOUS STATES AND THE DISTRICT OF COLUMBIA ¹
1 | $8,590
2 | 11,610
3 | 14,630
4 | 17,650
5 | 20,670
6 | 23,690
7 | 26,710
8 | 29,730
2001 POVERTY INCOME GUIDELINES FOR ALASKA ²
1 | $10,730
2 | 14,510
3 | 18,290
4 | 22,070
5 | 25,850
6 | 29,630
7 | 33,410
8 | 37,190
2001 POVERTY INCOME GUIDELINES FOR HAWAII ³
1 | $9,890
2 | 13,360
3 | 16,830
4 | 20,300
5 | 23,770
6 | 27,240
7 | 30,710
8 | 34,180
¹ For family units with more than 8 members, add $3,020 for each additional member. (The same increment applies to smaller family sizes also, as can be seen in the figures above.)
² For family units with more than 8 members, add $3,780 for each additional member. (The same increment applies to smaller family sizes also, as can be seen in the figures above.)
³ For family units with more than 8 members, add $3,470 for each additional member. (The same increment applies to smaller family sizes also, as can be seen in the figures above.)

BILLING CODE 4184-01-P

BILLING CODE 4184-01-C

INSTRUCTIONS FOR THE SF-424

Public reporting burden for this collection of information is estimated to average 45 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0043), Washington, DC 20503.

PLEASE DO NOT RETURN YOUR COMPLETED FORM TO THE OFFICE OF MANAGEMENT AND BUDGET. SEND IT TO THE ADDRESS PROVIDED BY THE SPONSORING AGENCY.

This is a standard form used by applicants as a required facesheet for preapplications and applications submitted for Federal assistance. It will be used by Federal agencies to obtain applicant certification that states which have established a review and comment procedure in response to Executive Order 12372 and have selected the program to be included in their process, have been given an opportunity to review the applicant's submission.

Item and Entry

1. Self-explanatory.

2. Date application submitted to Federal agency (or State if applicable) and applicant's control number (if applicable).

3. State use only (if applicable).

4. If this application is to continue or revise an existing award, enter present Federal identifier number. If for a new project, leave blank.

5. Legal name of applicant, name of primary organization unit which will undertake the assistance activity, complete address of the applicant, and name and telephone number of the person to contact on matters related to this application.

6. Enter Employer Identification Number (EIN) as assigned by the Internal Revenue Service.

7. Enter the appropriate letter in the space provided.

8. Check appropriate box and enter appropriate letter(s) in the space(s) provided:

—“New” means a new assistance award.

—“Continuation” means an extension for an additional funding/budget period for a project with a projected completion date.

—“Revision” means any change in the Federal Government's financial obligation or contingent liability from an existing obligation.

9. Name of Federal agency from which assistance is being requested with this application.

10. Use the Catalog of Federal Domestic Assistance number and title of the program under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, counties, cities).

13. Self-explanatory.

14. List the applicant's Congressional District and any District(s) affected by the program or project.

15. Amount requested or to be contributed during the first funding/budget period by each contributor. Value of in-kind contributions should be included on appropriate lines as applicable. If the action will result in a dollar change to an existing award, indicate only the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. This question applies to the applicant organization, not the person who signs as the authorized representative. Categories of debt include delinquent audit disallowances, loans and taxes.

18. To be signed by the authorized representative of the applicant. A copy of the governing body's authorization for you to sign this application as official representative must be on file in the applicant's office. (Certain Federal agencies may require that this authorization be submitted as part of the application.)

BILLING CODE 4184-01-M

BILLING CODE 4184-01-C

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0044), Washington, DC 20503.

Please do not return your completed form to the Office of Management and Budget. Send it to the address provided by the sponsoring agency.

General Instructions

This form is designed so that application can be made for funds from one or more grant programs. In preparing the budget, adhere to any existing Federal grantor agency guidelines which prescribe how and whether budgeted amounts should be separately shown for different functions or activities within the program. For some programs, grantor agencies may require budgets to be separately shown by function or activity. For other programs, grantor agencies may require a breakdown by function or activity. Sections A, B, C, and D should include budget estimates for the whole project except when applying for assistance which requires Federal authorizations in annual of other funding period increments. In the latter case, Sections A, B, C, and D should provide the budget for the first budgeted period (usually a year) and Section E should present the need for Federal assistance in the subsequent budget periods. All applications should contain a breakdown by the object class categories shown in Lines a-k of Section B.

Section A. Budget Summary Lines 1-4 Columns (a) and (b)

For applications pertaining to a single Federal grant program (Federal Domestic Assistance Catalog number) and not requiring a functional or activity breakdown enter on Line 1 under Column (a) the Catalog program title and the Catalog number in Column (b).

For applications pertaining to a single program requiring budget amounts by multiple functions or activities, enter the name of each activity or function on each line in Column (a), and enter the Catalog number in Column (b). For applications pertaining to multiple programs where none of the programs require a breakdown by function or activity, enter the Catalog program title on each line in Column (a) and the respective Catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g)

For new applications, leave Column (c) and (d) blank. For each line entry in Columns (a) and (b), enter in Columns (e), (f), and (g) the appropriate amounts of funds needed to support the project for the first funding period (usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amount(s) in Column (g) should be the sum of amounts in Columns (e) and (f).

For supplemental grants and changes to existing grants, do not use Columns (c) and (d). Enter in Columns (e) the amount of the increase of decrease of Federal funds and enter in Columns (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the totals for all columns used.

Section B. Budget Categories

In the column headings (1) through (4), enter the titles of the same programs, functions, and activities shown in Line 1-4, Column (a), Section A. When additional sheets are prepared for Section A, provide similar column headings on each sheets. For each program, function or activity, fill in the total requirements for funds (both Federal and non-Federal) by object class categories.

Line 6a-i—Show the totals of Lines 6a to 6h in each column.

Line 6j—Show the amount of indirect cost.

Line 6k—Enter the total of amounts on Lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, if any, expected to be generated from this project. Do not add or subtract this amount from the total project amount. Show under the program narrative statement the nature and source of income. The estimated amount of program income may be considered by the Federal grantor agency in determining the total amount of the grant.

Section C. Non-Federal Resources

Lines 8-11 Enter amounts of non-Federal resources that will be used on the grant. If in-kind contributions are included, provide a brief explanation on a separate sheet.

Column (a)—Enter the program titles identical to Column (a), Section A. A breakdown by function or activity is not necessary.

Column (b)—Enter the contribution to be made by the applicant.

Colunn (c)—Enter the amount of the State's cash and in-kind contribution if the applicant is not a State or State agency. Applicants which are a State or State agencies should leave this column blank.

Column (d)—Enter the amount of cash and in-kind contributions to be made from all other sources.

Column (e)—Enter totals of Columns (b), (c), and (d).

Line 12—Enter the total for each of Columns (b)-(e). The amount in Column (e) should be equal to the amount of Line 5, Column (f), Section A.

Section D. Forecasted Cash Needs

Line 13—Enter the amount of cash needed by quarter from the grantor agency during the first year.

Line 14—Enter the amount of cash from all other sources needed by quarter during the first year.

Line 15—Enter the totals of amounts of Lines 13 and 14.

Section E. Budget Estimates of Federal Funds Needed for Balance of the Project

Lines 16-19—Enter in Column (a) the same grant program titles shown in Column (a), Section A. A breakdown by function or activity is not necessary. For new applications and continuation grant applications, enter in the proper columns amounts of Federal funds which will be needed to complete the program or project over the succeeding funding periods (usually in year). This section need not be completed for revisions (amendment, changes, or supplements) to funds for the current year of existing grants.

If more than four lines are needed to list the program titles, submit additional schedules as necessary.

Line 20—Enter the total for each of the Columns (b)-(e). When additional schedules are prepared for this section, annotate accordingly and show the overall totals in this line.

Section F. Other Budget Information

Line 21—Use this space to explain amounts for individual direct object class cost categories that may appear to be out of the ordinary or to explain as required by the Federal grantor agency.

Line 22—Enter the type of indirect rate (provisional, predetermined, final or fixed) that will be in effect during the funding period, the estimated amount of the base to which the rate is applied, and the total indirect expense.

Line 23—Provide any other explanations or comments deemed necessary.

Attachment D

Assurances—Non-Construction Programs

Public reporting burden for this collection of information is estimated to average 15 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0040), Washington, DC 20503.

PLEASE DO NOT RETURN YOUR COMPLETED FORM TO THE OFFICE OF MANAGEMENT AND BUDGET. SEND IT TO THE ADDRESS PROVIDED BY THE SPONSORING AGENCY.

Note: Certain of these assurances may not be applicable to your project or program. If you have questions, please contact the awarding agency. Further, certain Federal awarding agencies may require applicants to certify to additional assurances. If such is the case, you will be notified.

As the duly authorized representative of the applicant I certify that the applicant:

1. Has the legal authority to apply for Federal assistance, and the institutional, managerial and financial capability (including funds sufficient to pay the non-Federal share of project costs) to ensure proper planning, management and completion of the project described in this application.

2. Will give the awarding agency, the Comptroller General of the United States, and if appropriate, the State, through any authorized representative, access to and the right to examine all records, books, papers, or documents related to the award; and will establish a proper accounting system in accordance with generally accepted accounting standard or agency directives.

3. Will establish safeguards to prohibit employees from using their positions for a purpose that constitutes or presents the appearance of personal or organizational conflict of interest, or personal gain.

4. Will initiate and complete the work within the applicable time frame after receipt of approval of the awarding agency.

5. Will comply with the Intergovernmental Personnel Act of 1970 (42 U.S.C. §§ 4728-4763) relating to prescribed standards for merit systems for programs funded under one of the nineteen statutes or regulations specified in Appendix A of OPM's Standard for a Merit System of Personnel Administration (5 CFR 900, Subpart F).

6. Will comply with all Federal statues relating to nondiscrimination. These include but are not limited to: (a) Title VI of the Civil Rights Act of 1964 (P.L. 88-352) which prohibits discrimination on the basis of race, color or national origin; (b) title IX of the Education Amendments of 1972, as amended (20 U.S.C. §§ 1681-1683, and 1685—1686), which prohibits discrimination on the basis of sex; (c) Section 504 of the Rehabilitation Act of 1973, as amended (29 U.S.C. §§ 794), which prohibits discrimination on the basis of handicaps; (d) the Age Discrimination Act of 1975, as amended (42 U.S.C. §§ 6101-6107), which prohibits discrimination on the basis of age;

(e) the Drug Abuse Office and Treatment Act of 1972 (P.L. 92-255), as amended, relating to nondiscrimination on the basis of drug abuse; (f) the Comprehensive Alcohol Abuse and Alcoholism Prevention, Treatment and Rehabilitation Act of 1970 (P.L. 91-616), as amended, relating to nondiscrimination on the basis of alcohol abuse or alcoholism; (g) §§ 523 and 527 of the Public Health Service Act of 1912 (42 U.S.C. §§ 290 dd-3 and 290 ee-3), as amended, relating to confidentiality of alcohol and drug abuse patient records; (h) Title VIII of the Civil Rights Act of 1968 (42 U.S.C. §§ 3601 et seq.), as amended, relating to non-discrimination in the sale, rental or financing of housing; (i) any other nondiscrimination provisions in the specific statute(s) under which application for Federal assistance is being made; and (j) the requirements of any other nondiscrimination statute(s) which may apply to the application.

7. Will comply, or has already complied, with the requirements of Title II and III of the Uniform Relocation Assistance and Real Property Acquisition Policies Act of 1970 (P.L. 91-646) which provide for fair and equitable treatment of persons displaced or whose property is acquired as a result of Federal or federally assisted programs. These requirements apply to all interests in real property acquired for project purposes regardless of Federal participation in purchases.

8. Will comply with the provisions of the Hatch Act (5 U.S.C. §§ 1501-1508 and 7324-7328) which limit the political activities of employees whose principal employment activities are funded in whole or in part with Federal Funds.

9. Will comply, as applicable, with the provisions of the Davis-Bacon Act (40 U.S.C. §§ 276a to 276a-7), the Copeland Act (40 U.S.C. § 276c and 18 U.S.C. § 874), and the Contract Work Hours and Safety Standards Act (40 U.S.C. §§ 327-333), regarding labor standards for federally assisted construction subagreements.

10. Will comply, if applicable, with flood insurance purchase requirements of Section 102(a) of the Flood Disaster Protection Act of 1973 (P.L. 93-234) which requires recipients in a special flood hazard area to participate in the program and to purchase flood insurance if the total cost of insurable construction and acquisition is $10,000 or more.

11. Will comply with environmental standards which may be prescribed pursuant to the following: (a) institution of environmental quality control measures under the National Environmental Policy Act of 1969 (P.L. 91-190) and Executive Order (EO) 11514; (b) notification of violating facilities pursuant to EO 11738; (c) protection of wetland pursuant to EO 11990; (d) evaluation of flood hazards in floodplains in accordance with EO 11988; (e) assurance of project consistency with the approved State management program developed under the Coastal Zone Management Act of 1972 (16 U.S.C. §§ 1451 et seq.); (f) conformity of Federal actions to State (Clear Air) Implementation Plans under Section 176)(c) of the Clear Air Act of 1955, as amended (42 U.S.C. §§ 7401 et seq.); (g) protection of underground sources of drinking water under the Safe Drinking Water Act of 1974, as amended, (P.L. 93-523); and (h) protection of endangered species under the Endangered Species Act of 1973, as amended, (P.L. 93-205).

12. Will comply with the Wild and Scenic Rivers Act of 1968 (16 U.S.C. §§ 1271 et seq.) related to protecting components of potential components of the national wild and scenic rivers system.

13. Will assist the awarding agency in assuring compliance with Section 106 of the National Historic Preservation Act of 1966, as amended (16 U.S.C. § 470), EO 11593 (identification and protection of historic properties), and the Archaeological and Historic Preservation Act of 1974 (16 U.S.C § 469a-1 et seq.).

14. Will comply with P.L. 93-348 regarding the protection of human subjects involved in research, development, and related activities supported by this award of assistance.

15. Will comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S.C. §§ 4801 et seq.) which prohibits the use of lead based paint in construction or rehabilitation of residence structures.

17. Will cause to be performed the required financial and compliance audits in accordance with the Single Audit Act of 1984.

18. Will comply with all applicable requirements of all other Federal laws, executive orders, regulations and policies governing this program.

Signature of Authorized Certifying Official

Title

Applicant Organization

Date Submitted

Attachment E

Certification Regarding Drug-Free Workplace Requirements

This certification is required by the regulations implementing the Drug-Free Workplace Act of 1988: 45 CFR Part 76, Subpart, F. Sections 76.630(c) and (d)(2) and 76.645(a)(1) and (b) provide that a Federal agency may designate a central receipt point for STATE-WIDE AND STATE AGENCY-WIDE certifications, and for notification of criminal drug convictions. For the Department of Health and Human Services, the central point is: Division of Grants Management and Oversight, Office of Management and Acquisition, Department of Health and Human Services, Room 517-D, 200 Independence Avenue, SW Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification. Grantees' attention is called, in particular, the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Fee Workplace Requirements

Alternate I. (Grantees Other Than Individuals)

The grantee certifies that it will or will continue to provide a drug-free workplace by:

(a) Publishing a statement notifying employees that the unlawful manufacture, distribution, dispensing, possession, or use of a controlled substances is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs; and

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction;

(e) Notifying the agency in writing, within ten calendar days after receiving notice under paragraph (d)(2) from an employee or otherwise receiving actual notice of such conviction. Employers of convicted employees must provide notice, inlcuding position title, to every grant officer or other designee on whose grant activity the convicted employee was working, unless the Federal agency has designated a central point for the receipt of such notices. Notice shall include the identification number(s) of each affected grant;

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code)

Check if there are workplaces on file that are not identified here.

Alternate II. (Grantees Who Are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of the conviction, to every grant officer or other designee, unless the Federal agency designates a central point for the receipt of such notices. When notice is made to such a central point, it shall include the identification number(s) of each affected grant.

Attachment F

Certification Regarding Debarment, Suspension and Other Responsibility Matters

Certification Regarding Debarment, Suspension, and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that is certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executing Order 12549. You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4, debarred, suspended, declared ineligible, or voluntarily excluded from participation in this covered transaction, unless authorized by the department or agency entering into this transaction.

7. The prospective primary participant further agrees by submitting this proposal that it will include the clause title “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon a certification of a prospective participant in a lower tier covered transaction that it is not proposed for debarment under 48 CFR part 9, subpart 9.4, debarred, suspended, ineligible, or voluntarily excluded from the covered transaction, unless it knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enters into a lower tier covered transaction with a person who is proposed for debarment under 48 CFR part 9, subpart 9.4, suspended, debarred, ineligible, or voluntarily excluded from participation in this transaction, in addition to other remedies available to the Federal Government, the department or agency may terminate this transaction for cause or default.

* * * * *

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicted for or otherwise criminally or civilly charged by a governmental entity (Federal, State or local) with commission of any of the offenses enumerated in paragraph (1)(b) of this certification; and

(d) Have not within a three-year period preceding this application/proposal had one or more public transactions (Federal, State or local) terminated for cause or default.

(2) Where the prospective primary participant is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participant shall provide immediate written notice to the person to which this proposal is submitted if at any time the prospective lower tier participant learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Coverage sections of rules implementing Executive Order 12549. You may contact the person to which this proposal is submitted for assistance in obtaining a copy of those regulations.

5. The prospective lower tier participant agrees by submitting this proposal that, [[Page 33043]] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transaction,” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check, the List of Parties Excluded from Federal Procurement and Nonprocurement Programs.

8. Nothing contained in the foregoing shall be construed to require establishment of a system of records in order to render in good faith the certification required by this clause.

The knowledge and information of a participant is not required to exceed that which is normally possessed by a prudent person in the ordinary course of business dealings.

9. Except for transactions authorized under paragraph 5 of this instructions, if a participant in a covered transaction knowingly enters into a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

* * * * *

Certification Regarding Debarment, Suspension, Ineligibility and Voluntary Exclusion—Lower Tier Covered Transactions

(1) The prospective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Intergovernmental Review (SPOC List)

It is estimated that in 2001 the Federal Government will outlay $305.6 billion in grants to State and local governments. Executive Order 12372, “Intergovernmental Review of Federal Programs,” was issued with the desire to foster the intergovernmental partnership and strengthen federalism by relying on State and local processes for the coordination and review of proposed Federal financial assistance and direct Federal development. The Order allows each State to designate an entity to perform this function. Below is the official list of those entities. For those States that have a home page for their designated entity, a direct link has been provided below.

States that are not listed on this page have chosen not to participate in the intergovernmental review process, and therefore do not have a SPOC. If you are located within one of these States, you may still send application materials directly to a Federal awarding agency.

Contact information for Federal agencies that award grants can be found in Appendix IV of the Catalog of Federal Domestic Assistance.

Arkansas

Tracy L. Copeland, Manager, State Clearinghouse, Office of Intergovernmental Services, Department of Finance and Administration, 1515 W. 7th St., Room, 412, Little Rock, Arkansas 72203, Telephone: (501) 682-1074, Fax: (501) 682-5206, tlcopeland@dfa.state.ar.us

California

Grants Coordination, State Clearninghouse, Office of Planning and Research, P.O. Box 3044, Room 222, Sacramento, California 95812-3044, Telephone: (916) 445-0613, Fax: (916) 323-3018, stat.clearinghouse@opr.ca.gov

Delaware

Charles H. Hopkins, Executive Department, Office of the Budget, 540 S. Dupont Highway, 3rd Floor, Dover, Delaware 19901, Telephone: (302) 739-3323, Fax: (302) 739-5661, chopkins@state.de.us

District of Columbia

Luisa Montero-Diaz, Office of Partnerships and Grants Development, Executive Office of the Mayor, District of Columbia Government, 441 4th Street, NW., Suite 530 South Washington, DC 20001, Telephone: (202) 727-8900, Fax: (202) 727-1652, opgd.eom@dc.gov

Florida

Jasmin Raffington

Florida State Clearinghouse

Department of Community Affairs

2555 Shumard Oak Blvd.

Tallahassee, Florida 32399-2100

Telephone: (850) 922-5438

Fax: (850) 414-0479

clearinghouse@dca.state.fl.us

Georgia

Georgia State Clearinghouse

270 Washington Street, SW.

Atlanta, Georgia 30334

Telephone: (404) 656-3855

Fax: (404) 656-7901

gach@mail.opb.state.ga.us

Illinois

Virginia Bova

Department of Commerce and Community Affairs

James R. Thompson Center

100 West Randolph, Suite 3-400

Chicago, Illinois 60601

Telephone: (312) 814-6028

Fax (312) 814-8485

vboba@commerce.state.il.us

Iowa

Steven R. McCann

Division of Community and Rural Development

Iowa Department of Economic Development

200 East Grand Avenue

Des Moines, Iowa 50309

Telephone: (515) 242-4719

Fax: (515) 242-4809

steve.mccann@ided.state.ia.us

Kentucky

Ron Cook

Department for Local Government

1024 Capital Center Drive, Suite 340

Frankfort, Kentucky 40601

Telephone: (502) 573-2382

Fax: (502) 573-2512

ron.cook@mail.state.ky.us

Maine

Joyce Benson

State Planning Office

184 State Street

38 State House Station

Augusta, Maine 04333

Telephone: (207) 287-3261

(207) 287-1461 (direct)

Fax: (207) 287-6489

joyce.benson@state.me.us

Maryland

Linda Janey

Manager, Clearinghouse and Plan Review Unit

Maryland Office of Planning

301 West Preston Street—Room 1104

Baltimore, Maryland 21201-2305

Telephone: (410) 767-4490

Fax: (410) 767-4480

linda@mail.op.state.md.us

Michigan

Richard Pfaff

Southeast Michigan Council of Governments

535 Griswold, Suite 300

Detroit, Michigan 48226

Telephone: (313) 961-4266

Telephone: (313) 961-4266

Fax: (313) 961-4869

pfaff@semcog.org

Mississippi

Cathy Mallette

Clearinghouse Officer

Department of Finance and Administration

1301 Woolfolk building, Suite E

501 North West Street

Jackson, Mississippi 39201

Telephone: (601) 359-6762

Fax: (601) 359-6758

Missouri

Angela Boessen

Federal Assistance Clearinghouse

Office of Administration

P.O. Box 809

Truman Building, Room 840

Jefferson City, Missouri 65102

Telephone: (573) 751-4834

Fax: (573) 522-4395

igr@mail.oa.state.mo.us

Nevada

Heather Elliott

Department of Administration

State Clearinghouse

209 E. Musser Street, Room 200

Carson City, Nevada 89701

Telephone: (775) 684-0209

Fax: (775) 684-0260

helliott@govmail.state.nv.us

New Hampshire

Jeffrey H. Taylor

Director

New Hampshire Office of State Planning

Attn: Intergovernmental Review Process

Mike Blake

2-½ Beacon Street

Concord, New Hampshire 03301

Telephone: (603) 271-2155

Fax: (603) 271-1728

jtaylor@osp.state.nh.us

New Mexico

Ken Hughes

Local Government Division

Room 201 Bataan Memorial Building

Santa Fe, New Mexico 87503

Telephone: (505) 827-4370

Fax: (505) 827-4948

khughes@dfa.state.nm.us

North Carolina

Jeanette Furney

Department of Administration

1302 Mail Service Center

Raleigh, North Carolina 27699-1302

Telephone: (919) 807-2323

Fax: (919) 733-9571

jeanette.furney@ncmail.net

North Dakota

Jim Boyd

Division of Community Services

600 East Boulevard Ave, Dept 105

Bismarck, North Dakota 58505-0170

Telephone: (701) 328-2094

Fax: (701) 328-2308

jboyd@state.nd.us

Rhode Island

Kevin Nelson

Department of Administration

Statewide Planning Program

One Capitol Hill

Providence, Rhode Island 02908-5870

Telephone: (401) 222-2093

Fax: (401) 222-2083

knelson@doa.state.ri.us

South Carolina

Omeagia Burgess

Budget and Control Board

Office of State Budget

1122 Ladies Street, 12th Floor

Columbia, South Carolina 29201

Telephone: (803) 734-0494

Fax: (803) 734-0645

aburgess@budget.state.sc.us

Texas

Denise S. Francis

Director, State Grants Team

Governor's Office of Budget and Planning

P.O. Box 12428

Austin, Texas 78711

Telephone: (512) 305-9415

Fax: (512) 936-2681

dfrancis@governor.state.tx.us

Utah

Carolyn Wright

Utah State Clearinghouse

Governor's Office of Planning and Budget

State Capitol, Room 114

Salt Lake City, Utah 84114

Telephone: (801) 538-1535

Fax: (801) 538-1547

cwright@gov.state.ut.us

West Virginia

Fred Cutlip, Director

Community Development Division

West Virginia Development Office

Building #6, Room 553

Charleston, West Virginia 25305

Telephone: (304) 558-4010

Fax: (304) 558-3248

fcutlip@wvdo.org

Wisconsin

Jeff Smith

Section Chief, Federal/State Relations

Wisconsin Department of Administration

101 East Wilson Street—6th Floor

P.O. Box 7868

Madison, Wisconsin 53707

Telephone: (608) 266-0267

Fax: (608) 267-6931

jeffrey.smith@doa.state.wi.us

American Samoa

Pat M. Galea'i

Federal Grants/Programs Coordinator

Office of Federal Programs

Office of the Governor/Department of Commerce

American Samoa Government

Pago Pago, American Samoa 96799

Telephone: (684) 633-5155

Fax: (684) 633-4195

pmgaleai@samoatelco.com

Guam

Director

Bureau of Budget and Management Research

Office of the Governor

P.O. Box 2950

Agana, Guam 96910

Telephone: 011-671-472-2285

Fax: 011-472-2825

jer@ns.gov.gu

Puerto Rico

Jose Caballero/Mayra Silva

Puerto Rico Planning Board

Federal Proposals Review Office

Minillas Government Center

P.O. Box 41119

San Juan, Puerto Rico 00940-1119

Telephone: (787) 723-6190

Fax: (787) 722-6783

North Mariana Islands

Ms. Jacoba T. Seman

Federal Programs Coordinator

Office of Management and Budget

Office of the Governor

Saipan, MP 96950

Telephone: (670) 664-2289

Fax: (670) 664-2272

omb.jseman@saipan.com

Virgin Islands

Ira Mills

Director, Office of Management and Budget

#41 Norre Gade Emancipation Garden Station, Second Floor

Saint Thomas, Virgin Islands 00802

Telephone: (340) 774-0750

Fax: (340) 776-0069

Irmills@usvi.org

Changes to this list can be made only after OMB is notified by a State's officially designated representative. E-mail messages can be sent to grants@omb.eop.gov. If you prefer, you may send correspondence to the following postal address: Attn: Grants Management, Office of Management and Budget, New Executive Office Building, Suite 6025, 725 17th Street, NW., Washington, DC 20503.

Please note: Inquiries about obtaining a Federal grant should not be sent to the OMB e-mail or postal address shown above. The best source of this information is the CFDA.

Attachment H

Certification Regarding Lobbying

Certification for Contracts, Grants, Loans, and Cooperative Agreements

The undersigned certifies, to the best of his or her knowledge and belief, that:

(1) No Federal appropriated funds have been paid or will be paid, by or on behalf of the undersigned, to any person for influencing or attempting to influence an officer of employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,“ in accordance with its instructions. Submission of this statement is a prerequisite for making or entering into this transaction imposed by section 1352, title 31, U.S. Code. Any person who fails to file the required statement shall be subject to a civil penalty of not less than $10,000 and not more than $100,000 for each such failure.

Signature

Title

Organization

BILLING CODE 4184-01-M

BILLING CODE 4184-01-C

Instructions for Completion of SF-LLL, Disclosure of Lobbying Activities

This disclosure form shall be completed by the reporting entity, whether subawardee or prime Federal recipient, at the initiation or receipt of a covered Federal action, or a material change to a previous filing, pursuant to title 31 U.S.C. Section 1352. The filing of a form is required for each payment or agreement to make payment to any lobbying entity for influencing or attempting to influence an officer or employee of any agency, a Member of Congress, an officer or employee of Congress, or an employee of a Member of Congress in connection with a covered Federal action. Use the SF-LLL-A Continuation Sheet for additional information if the space on the form is inadequate. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a follow-up report caused by a material change to the information previously reported, enter the year and quarter in which the change occurred. Enter the date of the last previously submitted report by this reporting entity for this covered Federal action.

4. Enter the full name, address, city, state and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “subawardee”, then enter the full name, address, city, state and zip code of the prime Federal recipient. Include Congressional District, if known.

6. Enter the name of the Federal agency making the award or loan commitment. Include at least one organizational level below agency name, if known. For example, Department of Transportation, United States Coast Guard.

7. Enter the Federal program name or description for the covered Federal action (item 1). If known, enter the full Catalog of Federal Domestic Assistance (CFDA) number of grants, cooperative agreements, loans, and loan commitments.

8. Enter the most appropriate Federal identifying number available for the Federal action identified in item 1 [e.g., Request for Proposal (RFP) number; Invitation for Bid (IFB) number; grant announcement number; the contract, grant, or loan award number; the application/proposal control number assigned by the Federal agency]. Include prefixes, e.g., “RFP-DE-90-001.”

9. For a covered Federal action where there has been an award or loan commitment by the Federal agency, enter the Federal amount of the award/loan commitment for the prime entity identified in item 4 or 5.

10. (a) Enter the full name, address, city, state and zip code of the lobbying entity engaged by the reporting entity identified in item 4 to influence the covered Federal action.

(b) Enter the full names of the individual(s) performing services, and include full address if different from 10(a). Enter Last Name, First Name, and Middle Initial (MI).

11. Enter the amount of compensation paid or reasonably expected to be paid by the reporting entity (item 4) to the lobbying entity (item 10). Indicate whether the payment has been made (actual) or will be made (planned). Check all boxes that apply. If this is a material change report, enter the cumulative amount of payment made or planned to be made.

According to the Paperwork Reduction Act, as amended, no persons are required to respond to a collection of information unless it displays a valid OMB Control Number. The valid OMB control number for this information collection is OMB No. 0348-0046. Public reporting burden for this collection is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

Disclosure of Lobbying Activities Continuation Sheet

Reporting Entity

Page

of

Attachment 1

Department of Health and Human Services (DHHS)

Regulations Applying to All Applicants/Grantees Under The Fiscal Year 2002 Community Economic Development Program

Title 45 of the Code of Federal Regulations

Part 16—DHHS Grant Appeals Process

Part 74—Administration of Grants (non-governmental)

Part 74—Administration of Grants (state and local governments and Indian Tribal affiliates):

Sections

74.26—Non-Federal Audits

74.27—Allowable cost for hospitals and non-profit organizations among other things

74.32—Real Property

74.34—Equipment

74.35—Supplies

74.24—Program Income

Part 75—Informal Grant Appeal Procedures

Part 76—Debarment and Suspension from Eligibility For Financial Assistance

Subpart F—Drug Free Workplace Requirements

Part 80—Non-discrimination Under Programs Receiving Federal Assistance through DHHS Effectuation of Title VI of the Civil Rights Act of 1964

Part 81—Practice and Procedures for Hearings Under Part 80 of this Title

Part 83—Regulation for the Administration and Enforcement of Sections 799A and 845 of the Public Health Service Act

Part 84—Non-discrimination on the Basis of Handicap in Programs and Activities Receiving Federal Financial Assistance

Part 85—Enforcement of Non—discrimination on the Basis of Handicap in Programs or Activities Conducted by DHHS

Part 86—Non-discrimination on the Basis of Sex in Education Programs and Activities Receiving or Benefiting from Federal Financial Assistance

Part 91—Non-discrimination on the Basis of Age in Health and Human Services Programs or Activities Receiving Federal Financial Assistance

Part 92—Uniform Administrative Requirements for Grants and Cooperative Agreements to States and Local Governments (Federal Register, March 11, 1988)

Part 93—New Restrictions on Lobbying

Part 100—Intergovernmental Review of DHHS Programs and Activities

Certification Regarding Environmental Tobacco Smoke

Public Law 103227, Part C Environmental Tobacco Smoke, also known as the Pro Children Act of 1994, requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Attachment K

Guidelines for a Business Plan

The application must contain a detailed and specific workplan or business plan that is both sound and feasible. Generally, a business plan is required for applications submitted under priority areas 1, 2, and 3. For all business ventures (except for business development opportunities for self-employed programs participants) a complete business plan will be required using guidelines discussed in the next several paragraphs. For the remaining sub-priority areas, a workplan is acceptable in lieu of a business plan.

Please note that OCS does not require the application to contain business plans for each self-employed program participant. However, a project that proposes to provide self-employed and other business opportunities for program participants must include a development plan that shows how participants will become self-sufficient and how their technical assistance needs will be met.

Guidelines of a Business Plan

The business plan is one of the major components that will be evaluated by the OCS to determine the feasibility of a business venture or an economic development project. It must be well prepared and address all the relevant elements as follows:

(a) EXECUTIVE SUMMARY (limit summary to 3 pages)

(b) The business and its industry. This section should describe the nature and history of the business and provide some background on its industry.

(i) The Business: as a legal entity; the general business category;

(ii) Description and Discussion of Industry: current status and prospects for the industry.

(c) Products and Services: This section deals with the following:

(i) Description: Describe in detail the products or services to be sold;

(ii) Proprietary Position: Describe proprietary features if any of the product, e.g., patients, trade secrets;

(iii) Potential: Features of the product or service that may give it an advantage over the competition;

(d) Market Research and Evaluation: The applicant should consider businesses in growth industries and occupations with skill levels accessible to low income persons. Businesses should be identified by Standard Industrial Codes (SIC) and jobs by occupational classifications. This information is published by the U.S. Department of Commerce in the “Statistical Abstract of the United States, 1996”, Table No. 646 and 647. Also, you may use the table included as “Attachment L” to identify industrial areas and occupational classifications. This section should present sufficient information to show that the product or service has a substantial market and can achieve sales in the face of competition;

(i) Customers: Describe the actual and potential purchasers for the product or service by market segment.

(ii) Market Size and Trends: State the site of the current total market for the product or service offered;

(iii) Competition: An Assessment of the strengths and weaknesses of competitive in the current market;

(iv) Estimated Market Share and Sales: Describe the characteristics of the product or service that will make it competitive in the current market;

(e) Marketing Plan: The marketing plan should detail the product, pricing, distribution, and promotion strategies that will be used to achieve the estimated market share and sales projections. The marketing plan must describe what is to be done, how it will be done and who will do it. The plan should address the following topics—Overall Marketing Strategy, Packaging, Service and Warranty, Pricing, Distribution and Promotion.

(f) Design and Development Plans: If the product, process or service of the proposed venture requires any design and development before it is ready to be placed on the market, the nature and extent and cost of this work should be fully discussed. The section should cover items such as Development Status and Tasks, Difficulties and Risks, Product Improvement and New Products, and Costs.

(g) Manufacturing and Operations Plan: A manufacturing and operations plan should describe the kind of facilities, plant location, space, capital equipment and labor force (part and/or full time and wage structure) that are required to provide the company's product or service.

(h) Management Team: The management team is the key in starting and operating a successful business. The management team should be committed with a proper balance of technical, managerial and business skills, and experience in doing what is proposed. This section must include a description of: the key management personnel and their primary duties; compensation and/or ownership; the organizational structure; Board of Directors; management assistance and training needs; and supporting professional services.

(i) Overall Schedule: A schedule that shows the timing and interrelationships of the major events necessary to launch the venture and realize its objectives. Prepare, as part of this section, a month-by-month schedule that shows the timing of such activities as product development, market planning, sales programs, and production and operations. Sufficient detail should be included to show the timing of the primary tasks required to accomplish each activity.

(j) Critical Risks and Assumptions: The development of a business has risks and problems and the Business Plan should contain some explicit assumptions about them. Accordingly, identify and discuss the critical assumptions in the Business Plan and the major problems that will have to be solved to develop the venture. This should include a description of the risks and critical assumptions relating to the industry, the venture, its personnel, the products market appeal, and the timing and financing of the venture.

Also, if a “construction project” is involved, the Business Plan should identify and address briefly the project's timeframes and critical assumptions for conduct of predevelopment, architectural/engineering and environmental studies, etc., and acquisition of permits for building, use and occupancy that are required for the project.

(k) Community Benefits: The proposed project must contribute to economic, human and community development within the projects targets area. A section that describes and discusses the potential economic and non-economic benefits to low income members of the community must be included as well as a description of the strategy that will be used to identify and hire individuals being served by public assistance programs and how linkages with community agencies/organizations administering the AFDC/TANF program will be developed. The following project benefits must be described.

Economic Development and Job Creation

Number of permanent jobs (with particular emphasis on jobs for low-income people) that will be created during the project period. Also, for low-income people, provide the following information:

—Number of jobs that will have career development opportunities and a description of those jobs;

—Number of jobs that will be filled by individuals lifted form AFDC/TANF assistance;

Number of Self-employed and other ownership opportunities created for low-income residents;

—Annual salary expected for each person employed (net profit after deductions of business expenses for self-employed persons);

—Specific steps to be taken including on-going management support and technical assistance provided by the grantee or a third party to develop and sustain self-employed program participants after their businesses are in place.

Note: OCS will not recognize job equivalents nor job counts based on economic multiplier functions; jobs must be specifically identified.

Other benefits, which might be discussed, are;

Human Development

—New technical skills development and associated career opportunities for community residents;

—Management development and training;

—Benefits of self-sufficient for persons lifted from AFDC/TANF assistance.

Community Development

—Development of community's physical assets;

—Provisions of needed, but currently unsupplied, services or products to community;

—Improvement in the living environment.

(1) The Financial Plan: The Financial Plan is basic to the development of a Business Plan. Its purpose is to indicate the project's potential and the timetable for financial self-sufficiency. In developing the Financial Plan, the following exhibits must be prepared for the first three years of the business' operation:

(i) Profit and Loss Forecasts—quarterly for each year;

(ii) Cash Flow Projections—quarterly for each year

(iii) Pro forma balance sheets—quarterly for each year;

Also, additional financial information for the business operation that must be included are an initial Source and Use of Funds Statement for project funds and a brief summary paragraph discussing any further capital requirements and their sources.

If an applicant is proposing a project which will affect a property list in, or eligible for inclusion in the National Register of Historic Places, it must identify this property in the narrative and explain how it has complied with the provisions of Section 106 of the National Historic Preservation Act of 1996 as amended. If there is any question as to whether the property is listed in or eligible for inclusion in the National Register of Historic Places, the applicant should consult with the State Historic Preservation Officer. (See Attachment D: SF-424B, Item 13 for additional guidance.) The applicant should contact OCS early in the development of its application for instructions regarding compliance with the Act and data required to be submitted to the Department of Health and Human Services. Failure to comply with the cited Act may result in the application being ineligible for funding consideration.

Applicable to Priority Areas 1, 2, and 3

Applications submitted under Priority Areas 1, 2 and 3 which propose to use the requested OCS funds to make an equity investment or a loan to a business concern, including a wholly-owned subsidiary, or to make a sub-grant with a portion of OCS funds, must include a written agreement between the community development corporation and the recipient of the grant funds which contains all of the elements listed in Part C under the appropriate Priority Area.

Applicable to Sub-Priority Area 1.5 Only

An applicant in this priority area must document its experience and capability in several of the following areas:

—Business/Development;

—Micro-Entrepreneurship Development;

—Commercial Development;

—Organizational and Staff Development;

—Board Training;

—Business Management, including Strategic Planning and Fiscal Mangement;

—Finance, including Business Packaging and Financial/Accounting Services, and/or

—Regulatory compliance including Zoning and permit Compliance

—Incubator Development

—Tax Credits and Bond Financing

—Marketing

The applicant must document staff competence or the accessibility of third party resources with proven competence. If the work program requires the significance use of third party (consultant/contractor) resources, those resources should be identified and resumes of the individuals or key organizational staff provided.

Resumes of the applicant's staff, who are to be directly involved in programmatic and administrative expertise sharing, should also be included. The applicant must document successful experience in the mobilization of resources (both cash and in-kind) from private and public sources. The applicant must also clearly state how the information learned from this project may be disseminated to other interested grantees.

Applicable to Sub-Priority Area 1.6 only

An applicant in this priority area must document its experience and capability in implementing projects national in scope and have significant and relative experiences in working with community development corporations.

The applicants must have the ability to collect and analyze data nationally that may benefit CDCs and be able to disseminate information to all of OCS funding grantees; publish a national directory of funding sources for CDCs (public, corporate, foundation, religious); publish research papers on specific aspects of job creation by CDSs; design and provide information on successful projects and economic niches that CDCs can target. The applicant will also be responsible for the development of instructional programs, national conferences, seminars, and other activities to assist community development corporations; and provide peer-to-peer technical assistance to OCS funded CDCs.

Applicable to Sub-Priority Area 2.1

Each applicant must include a full discussion of how the proposed use of funds will enable low-income rural communities to devlop the capability and expertise to establish and maintain affordable, adequate and safe water and waste water systems. Applicants must also discuss how they will disseminate information about water and waste water programs serving rural communities, and how they will better coordinate Federal, State, and local water and waste water program financing and development to assure improved service to rural communities.

Among the benefits that merit discussion under this sub-priority area are: The number of rural communities to be provided with technical and advisory services; the number of rural poor individuals who are expected to be directly served by applicant-supported improved water and waste water systems; the decrease in the number of inadequate water systems related to applicant activity; the number of newly-established and applicant-supported treatment systems (all of the above may be expressed in terms of equivalent connection units); the increase in local capacity in engineering and other areas of expertise; and the amount of non-discretionary program dollars expected to be mobilized.

e. Significant and Beneficial Impact and Other Criteria

The project narrative must address the remaining aspects of the project noted in the outline of Part F, “Contents of Application and Receipt Process”, Items V and VI. These include private partnerships and “Budget Appropriateness and Reasonableness” areas as well as information to be included in the appendices.

Attachment L

Table of North American Industry Classification System and Occupational Classifications
North American industry classification system (NAIC) | Occupational classifications
Agriculture, Forestry, Fishing, and Hunting Only Logging covered in the Economics Census Mining Utilities Construction Manufacturing Wholesale Trade Retail Trade Transportation and Warehousing Information Finance and Insurance Real Estate and Rental and Leasing Professional, Scientific and Technical Services Management of Companies and Enterprises Administrative and Support and Waste Management and Remediation Services Educational Services Health Care and Social Assistance Arts, Entertainment and Recreation Accommodation and Food Services Other Services (except Public Administration) Public Administration not covered in the Economic Census | Managerial and Professional Specialty Technical sales, and Administrative Support (includes technical and related support, technicians, sales occupations, including clerical). Precision Production, Craft, and Repair (includes mechanics, repairers, construction trades, crafters). Operators, fabricators, and Laborers (includes machine operators, assemblers, inspectors, transportation and material moving occupations, handlers, equip cleaners, Helpers, laborers including construction laborers). Farming, Forestry and Fishing.
Source: U.S. Department of Commerce, “Statistical Abstract of the United States, 1996”, Table No. 646 and 647. Updated 1998. Table No. 679 and 680, and 1997 Economic Census.

BILLING CODE 4184-01-M

[FR Doc. 02-13036 Filed 5-24-02; 8:45 am]

BILLING CODE 4184-01-C